DEPARTMENT OF HEALTH AND HUMAN SERVICES

Centers for Medicare & Medicaid Services

42 CFR Part 416

[CMS-1885-FC]

RIN 0938-AM02

Medicare Program; Update of Ambulatory Surgical Center List of Covered Procedures Effective July 1, 2003

AGENCY: Centers for Medicare & Medicaid Services (CMS), HHS.

ACTION: Final rule with comment period.

SUMMARY: This final rule with comment period will make additions to and deletions from the current list of Medicare approved ambulatory surgical center (ASCs) procedures. In addition, it responds to comments received on the June 12, 1998 proposed rule (63 FR 32290) that addressed proposed additions to and deletions from the list of ASC covered procedures. This rule also implements requirements of section 1833(i)(1) and (2) of the Social Security Act.

DATES: Effective date: These regulations are effective for services furnished on or after July 1, 2003.

Comment date: We will consider comments on new proposed additions to and deletions from the ASC list of covered procedures if we receive them at the appropriate address, as provided below, no later than May 27, 2003.

ADDRESSES: Mail written comments (1 original and 2 copies) to the following address: Centers for Medicare & Medicaid Services, Department of Health and Human Services, Attention: CMS-1885-FC, P.O. Box 8013, Baltimore, MD 21244-8013.

To insure that mailed comments are received in time for us to consider them, please allow for possible delays in delivering them.

Because of staff and resource limitations, we cannot accept comments by facsimile (FAX) transmission. In commenting, please refer to file code CMS-1885-FC.

If you prefer, you may deliver (by hand or courier) your written comments (1 original and 2 copies) to one of the following addresses: Room 445-G, Hubert H. Humphrey Building, 200 Independence Avenue, SW., Washington, DC 20201 or Room C5-14-03, 7500 Security Boulevard, Baltimore, MD 21244-8013.

(Because access to the interior of the HHH Building is not readily available to persons without Federal Government identification, commenters are encouraged to leave their comments in the CMS drop slots located in the main lobby of the building. A stamp-in clock is available for commenters wishing to retain a proof of filing by stamping in and retaining an extra copy of the comments being filed.)

Comments mailed to the addresses indicated as appropriate for hand or courier delivery may be delayed and could be considered late.

For information on viewing public comments, see the beginning of the SUPPLEMENTARY INFORMATION section.

FOR FURTHER INFORMATION CONTACT: Bob Cereghino, 410-786-4675.

SUPPLEMENTARY INFORMATION:

Inspection of Public Comments

Comments received timely will be available for public inspection as they are received, generally beginning approximately 2 weeks after the close of the comment period, at the headquarters of the Centers for Medicare and Medicaid Services, 7500 Security Boulevard, Baltimore, Maryland 21244, Monday through Friday of each week from 8:30 a.m. to 5 p.m. To schedule an appointment to view public comments, please call (410) 786-7197.

Copies

To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $10. As an alternative, you can view and photocopy the Federal Register document at most libraries designated as Federal Depository Libraries and at many other public and academic libraries throughout the country that receive the Federal Register.

This Federal Register document is also available from the Federal Register online database through GPO access, a service of the U.S. Government Printing Office. The Web site address is http://www.access.gpo.gov/nara/index.html.

I. Background

A. Legislative History

Specific provisions of the proposed rule are discussed in detail in Section II below.

Section 1832(a)(2)(F)(i) of the Social Security Act (the Act) provides that benefits under the Medicare Supplementary Medical Insurance program (Part B) include payment for facility services furnished in connection with surgical procedures we specify and which are performed in an ambulatory surgical center (ASC). We are to review and update the list of ASC procedures biennially. To participate in the Medicare program as an ASC, a facility must meet the standards specified under section 1832(a)(2)(F)(i) of the Act and 42 CFR 416.25, which sets forth general conditions and requirements for ASCs.

Generally, there are two primary elements in the total cost of performing a surgical procedure—the cost of the physician's professional services for performing the procedure and the cost of services furnished by the facility where the procedure is performed (for example, surgical supplies and equipment and nursing services). Section 1833(i)(2)(A) of the Act addresses what the ASC facility fee is intended to represent and how the amount of the Medicare payment for ASC facility services is to be determined. It requires us to review and update ASC payment amounts annually.

The ASC payment rate is to be a standard overhead amount established on the basis of our estimate of a fair fee that takes into account the costs incurred by ASCs generally in providing facility services in connection with performing a specific procedure. The Report of the Conference Committee accompanying section 934 of the Omnibus Budget Reconciliation Act of 1980 (Pub. L. 96-499), which enacted the ASC benefit in December 1980, states that this overhead factor is expected to be calculated on a prospective basis using sample survey and similar techniques to establish reasonable estimated overhead allowances, which take account of volume (within reasonable limits), for each of the listed procedures. (See H.R. Rep. No. 1479, at 134 (1980).) To estimate the amount of those reasonable allowances, we are required by section 1833(i)(2)(A)(i) of the Act to survey the actual audited costs incurred by a representative sample of facilities in connection with a representative sample of procedures. Because payment for ASC facility services is subject to the usual Medicare Part B deductible and coinsurance requirements, Medicare pays participating ASCs 80 percent of the prospectively-determined rate, adjusted for regional wage variations. Section 1833(i)(2)(A)(ii) of the Act requires that the ASC payment rates result in substantially lower Medicare expenditures than would have been paid if the same procedure had been performed on an inpatient basis in a hospital. Section 1833(i)(2)(A)(iii) of the Act requires that payment for insertion of an intraocular lens (IOL) include an allowance for the IOL that is reasonable and related to the cost of acquiring the class of lens involved.

Section 13531 of the Omnibus Budget Reconciliation Act of 1993 (OBRA 1993) (Pub. L. 103-66), prohibited us from providing for any inflation update in the payment amounts for ASCs determined under section 1833(i)(2)(A) of the Act for fiscal years (FYs) 1994 and 1995. Section 13533 of OBRA 1993 established $150 as the amount of payment allowed for an IOL inserted during or subsequent to cataract surgery in an ASC on or after January 1, 1994, and before January 1, 1999. Section 141(a)(1) of the Social Security Act Amendments of 1994 (SSAA 1994) (Public Law 103-432) amended section 1833(i)(2)(A)(i) of the Act to require that a quinquennial survey of ASCs be taken beginning not later than January 1, 1995.

Section 141(a)(2) of SSAA 1994 added section 1833(i)(2)(C) to the Act to provide that, beginning with FY 1996, there be an adjustment for inflation during fiscal years when we do not update ASC rates based on actual audited costs determined by surveying a representative sample of facilities. Section 1833(i)(2)(C) of the Act provides that ASC payment rates are to be increased by the percentage increase in the consumer price index for urban consumers (CPI-U), that we estimate for the 12-month period ending with the midpoint of the year involved, beginning with FY 1996. Section 141(a)(3) of SSAA 1994 amended section 1833(i)(1) of the Act to require us to consult with appropriate medical organizations in specifying the procedures that constitute the ASC list.

Section 141(b) of SSAA 1994 requires us to establish a process for reviewing the appropriateness of the payment amount provided under section 1833(i)(2)(A)(iii) of the Act for IOLs with respect to a class of new-technology IOLs. That process was the subject of a separate notice of proposed rulemaking entitled Adjustment in Payment Amounts for New Technology Intraocular Lenses published in the Federal Register on September 9, 1997 (62 FR 46698).

Section 4555 of BBA 1997 amended section 1833(i)(2)(C) of the Act to limit the annual adjustment of ASC payment rates provided for in that paragraph to the CPI-U increase reduced by 2.0 percentage points (but not below zero) for fiscal years 1998 through 2002.

B. Extensions of Comment Periods for Proposed Rule

On June 12, 1998, we published in the Federal Register a proposed rule that would revise the ratesetting methodology and payment rates and update the list of surgical procedures payable by Medicare for ASCs. The closing date of the comment period for the June 12, 1998 proposed rule was extended several times. The first extension notice was published in the Federal Register August 14, 1998 (63 FR 43655). The reason for the extension was that, due to the complexity and scope of the proposed rule, numerous members of the industry and professional associations requested more time to analyze the potential consequences of the rule. The closing date was extended to September 10, 1998.

On September 8, 1998, a proposed rule outlining the provisions of a Medicare prospective payment system (PPS) for hospital outpatient services was published in the Federal Register (63 FR 47551). On October 1, 1998 a second extension notice extending the comment period for the June 12, 1998 proposed rule was published in the Federal Register (63 FR 52663) with a new closing date of November 9, 1998. This second extension notice was issued because members of trade and professional associations urged us to postpone implementing the changes contained in the June 12, 1998 ASC proposed rule from October 1, 1998 to January 1, 1999 to coincide with implementation of the OPPS. They based their argument for delaying implementation of the ASC changes both on the need for more time for cross-analysis of the ASC proposed rule with the hospital outpatient prospective payment system (OPPS) proposed rule and the overlap and interrelationship between the two payment systems. This second extension notice also explained that there would be no inflationary update of the ASC rates on October 1, 1998 because reducing the fiscal year CPI-U factor of 2.1 percent by 2.0 percent would result in a change of less than $1 for each payment group.

A third notice, which extended the comment period to January 8, 1999, was published in the Federal Register on November 15, 1998. This extension was necessary because the OPPS proposed rule comment period was being extended and Medicare payments to ASCs were closely linked to the way Medicare proposed to pay hospitals under the OPPS. A fourth extension notice was published in the Federal Register on January 12, 1999 (64 FR 1785). The reason given was the same as the prior extension notice, that is, because the comment period for the OPPS rule was being extended for further examination and because the two proposed payment systems were closely related. The new closing date of March 9, 1999 would run concurrently with the OPPS extension. On March 2, 1999, a fifth extension notice with the same rationale as the fourth notice was published in the Federal Register (64 FR 12278) and extended the comment period for an additional 60 days.

The sixth and final extension was published in the Federal Register July 6, 1999 (64 FR 36321). On June 30, 1999 we published a correction notice (64 FR 35258) in the Federal Register that corrected a number of technical and typographical errors contained in the September 8, 1998 OPPS proposed rule. To provide commenters adequate time to analyze the potential impact of the corrections to the OPPS proposed rule on ASC payments and because of the link between Medicare ASC payments and hospital outpatient payments, we found it appropriate to extend the comment period for the ASC proposed rule to July 30, 1999.

II. Provisions of the Proposed Regulations

In the June 12, 1998, proposed rule, we proposed the following:

• Clarification of the definition of ASC.

• Revision of the basic requirements in § 416.3 and § 416.4.

• Additions to and deletions from the ASC list.

• Revision of the criteria for determining surgical procedures payable in an ASC in § 416.65 and elimination of numeric thresholds.

• Establishment of an ASC Advisory Group.

• Replacement of eight ASC payment groups with ambulatory payment classification (APC) groups that are clinically homogeneous and consist of procedures with similar resource inputs, modeled on the APC groups proposed for the OPPS.

• Redefinition of the ASC ratesetting methodology.

• Rebased payment rates to reflect a survey of ASC costs that was conducted in 1994.

A combination of circumstances has resulted in our delaying publication of a final rule to implement the changes proposed in the June 12, 1998 ASC proposed rule. First, as discussed above, we extended the public comment period to July 30, 1999 in response to requests from the industry to allow adequate opportunity for comparison of the proposed ASC rates and ratesetting methodology with the proposed OPPS that was published in the Federal Register on September 8, 1998, followed by publication of an OPPS correction notice on June 30, 1999. Notwithstanding the close of the comment period on July 30, 1999, the changes required to implement a new payment system for ASC facility services could not be implemented because our contractors had to prepare Medicare claims processing systems to be Year 2000 (“Y2K”) compliant.

On November 29, 1999, the Balanced Budget Refinement Act of 1999 (BBRA)(Pub. L. 106-113) was enacted. Section 226 of BBRA required that full implementation of the proposed ASC rates be delayed over a 3 year period. Specifically, the BBRA stated that if a prospective payment system for ASCs, that is, one involving the June 1998 proposed rates, was implemented prior to incorporating data from a 1999 or subsequent Medicare cost survey, in the first year of implementation no more than ⅓ of the new ASC payment would consist of this new rate and the remainder would consist of the current payment rate. In the following year, no more than ⅔ of the new rate would consist of the June 1998 proposed rate and the remainder would consist of the current rate.

Significant changes in the OPPS were also required as a result of the enactment of the BBRA. Substantial pressures to implement the OPPS combined with the new OPPS requirements resulting from enactment of the BBRA compelled us to focus all available resources on the OPPS, which was implemented on August 1, 2000.

On December 21, 2000, the Medicare, Medicaid and SCHIP Benefit Improvement and Protection Act of 2000 (BIPA)(Pub. L. 106-554) was enacted. Section 424 of BIPA prohibited implementation of a revised prospective payment system for ASC facility services before January 1, 2002, extended the phase-in of the APC system for ASCs to four years and required that by January 1, 2003, ASC rates be rebased using data from a 1999 or later Medicare survey.

The changes mandated by the BBRA and the BIPA, combined with the diversion of resources necessitated by Y2K compliance activities and implementation and start-up issues related to the OPPS have resulted in the delay in issuing a final ASC rule to implement the changes in the June 12, 1998 proposed rule. As stated above, Section 424 of BIPA requires that payment rates effective January 1, 2003 be based on a survey of ASCs conducted after 1999. We have developed an ASC survey instrument, but our experience in collecting ASC cost data in 1994 suggests that completion of the survey instrument, followed by an audit of the data reported by ASCs and the subsequent compilation of cost data upon which to base ASC payment rates, takes at least 2 years. Therefore, rather than delaying further the biennial update of the ASC list mandated by the statute, in this final rule with comment period we are making final only the additions to and deletions from the ASC list that we proposed in the June 12, 1998 proposed rule. We are not implementing at this time any of the other changes proposed in the June 1998 proposed rule. That is, we are not making final the regulatory changes in part 416 that we proposed or the proposed ratesetting methodology based on APC groups and survey data of ASC costs collected in 1994. We recognize that we are not in compliance with the requirements enacted by section 424 of BIPA, that we rebase rates by January 1, 2003 using data from a survey of ASC costs taken in 1999 or later. While we are committed to rebasing and restructuring the ASC payment rates, we are also committed to ensuring that the method we use to rebase ASC payment rates does not inadvertently result in rates that amplify payment differentials across ambulatory sites of service. We are studying approaches to ratesetting, some of which may require legislative change that will provide adequate payments to ASCs for surgical services and that are in line with what Medicare pays under the OPPS and the physician fee schedule for the same service.

In section III of this preamble, we respond to comments that we received timely on our proposed additions to and deletions from the ASC list. In addition, we are proposing to add to the list a limited number of new CPT codes that were added to CPT in 1999, 2000, 2001, 2002, and 2003 and that are similar to procedures on the updated ASC list. These new CPT codes are designated by an “A*” in column 2 of the Addendum. We solicit comments on the addition of these new CPT codes and the payment rates proposed for these new codes.

In the June 1998 proposed rule, we listed codes with corresponding new payment rates based on the 1994 survey of ASC costs. Because we do not have current survey data upon which to base new payment rates, we have assigned the codes being added to the ASC list in this final rule to one of the nine existing payment groups under which payments for ASC facility services are currently made. With the guidance of our medical advisors, we matched additions to the ASC list with codes for procedures already on the ASC list that they most closely resemble in terms of clinical work and resource inputs such as equipment, supplies, and time required in the operating suite. We assigned the additions to the list to the same payment group to which the matching codes are currently assigned. For example, our medical advisors determined that CPT code 24341, Repair tendon or muscle, upper arm or elbow, each tendon or muscle, primary or secondary (excludes rotator cuff), is in the same family of codes as CPT code 24340, Tenodesis of biceps tendon at elbow (separate procedure) and CPT code 24342, Reinsertion of ruptured biceps or triceps tendon, distal, with or without tendon graft. CPT codes 24340 and 24342 are both currently assigned to payment group 3. Because the resource inputs such as supplies, equipment, and time in the operating suite for CPT code 24341 are similar to the resources required to perform CPT codes 24340 and 24342, we assigned CPT code 24341 to group 3 to maintain consistency in payment for this family of closely related codes.

In the case of some codes, such as CPT 47511, Introduction of percutaneous transhepatic stent for biliary drainage, we identified procedures on the current list that they most closely resemble clinically and in terms of resource inputs, but we assigned the code to a higher payment group to take into account expensive equipment or supplies that are required to perform the procedure. Therefore, while CPT code 47511 is similar to CPT code 47510, which is currently on the ASC list and assigned to payment group 2, we assigned CPT code 47511 to payment group 9 to take into account the added cost of expensive supplies required for this procedure.

There are some procedures that we proposed to add to the ASC list in the June 1998 proposed rule that we are not adding to the list at this time. We are not adding to the ASC list procedures that are inconsistent with our current criteria in § 416.65 for determining surgical procedures payable in an ASC. Also, we are not adding to the list procedures that would otherwise have met the criteria for inclusion on the ASC list, except that they would be significantly overpaid in the lowest ASC payment group, which could create an incentive to shift these procedures to an ASC setting. The payment rates proposed for many of these procedures in the June 12, 1998 proposed rule were significantly less than the lowest current ASC payment group because we were proposing a different ratesetting method using APC groups. We are also eliminating proposed additions to the ASC list that were deleted from CPT after 1998, and there are some codes that we proposed to add but are not adding on the basis of comments. The codes that we are not adding to the ASC list for these reasons are listed in the following table. We recognize that most of the additions and deletions to the ASC list that are being implemented through this final rule were proposed nearly 5 years ago. Our medical advisors have reviewed all of the changes reflected in this final rule and we believe that, taking patient safety into account , the final updated list reasonably reflects contemporary surgery performed in an ASC in the year 2003.

Procedures Proposed for Addition to the ASC List That Are Not Being Added
HCPCS | Short descriptor
11752 | Remove nail bed/finger tip.
11760 | Repair of nail bed.
11762 | Reconstruction of nail bed.
11920 | Correct skin color defects.
11921 | Correct skin color defects.
11922 | Correct skin color defects.
11950 | Therapy for contour defects.
11951 | Therapy for contour defects.
11952 | Therapy for contour defects.
11954 | Therapy for contour defects.
12001 | Repair superficial wound(s).
12002 | Repair superficial wound(s).
12004 | Repair superficial wound(s).
12011 | Repair superficial wound(s).
12013 | Repair superficial wound(s).
12014 | Repair superficial wound(s).
12015 | Repair superficial wound(s).
12031 | Layer closure of wound(s).
12032 | Layer closure of wound(s).
12041 | Layer closure of wound(s).
12042 | Layer closure of wound(s).
12051 | Layer closure of wound(s).
12052 | Layer closure of wound(s).
12053 | Layer closure of wound(s).
15819 | Plastic surgery, neck.
15836 | Excise excessive skin tissue.
15837 | Excise excessive skin tissue.
15838 | Excise excessive skin tissue.
15839 | Excise excessive skin tissue.
15860 | Test for blood flow in graft.
16010 | Treatment of burn(s).
16040 | Deleted by CPT.
16041 | Deleted by CPT.
16042 | Deleted by CPT.
17106 | Destruction of skin lesions.
17107 | Destruction of skin lesions.
17108 | Destruction of skin lesions.
17304 | Chemosurgery of skin lesion.
17305 | 2nd stage chemosurgery.
17306 | 3rd stage chemosurgery.
17307 | Followup skin lesion therapy.
17310 | Extensive skin chemosurgery.
19396 | Design custom breast implant.
21030 | Removal of face bone lesion.
21031 | Remove exostosis, mandible.
21032 | Remove exostosis, maxilla.
21110 | Interdental fixation.
21120 | Reconstruction of chin.
21125 | Augmentation, lower jaw bone.
21260 | Revise eye sockets.
20500 | Injection of sinus tract.
20950 | Fluid pressure, muscle.
24640 | Treat elbow dislocation.
24650 | Treat radius fracture.
25500 | Treat fracture of radius.
25530 | Treat fracture of ulna.
25560 | Treat fracture radius & ulna.
25600 | Treat fracture radius/ulna.
25622 | Treat wrist bone fracture.
25630 | Treat wrist bone fracture.
25650 | Treat wrist bone fracture.
26600 | Treat metacarpal fracture.
26641 | Treat thumb dislocation.
26670 | Treat hand dislocation.
26700 | Treat knuckle dislocation.
26720 | Treat finger fracture, each.
26725 | Treat finger fracture, each.
26740 | Treat finger fracture, each.
26750 | Treat finger fracture, each.
26755 | Treat finger fracture, each.
26770 | Treat finger dislocation.
26775 | Treat finger dislocation.
27200 | Treat tail bone fracture.
27220 | Treat hip socket fracture.
27256 | Treat hip dislocation.
27556 | Treat knee dislocation.
28001 | Drainage of bursa of foot.
28010 | Incision of toe tendon.
28108 | Removal of toe lesions.
28124 | Partial removal of toe.
28220 | Release of foot tendon.
28230 | Incision of foot tendon(s).
28232 | Incision of toe tendon.
28272 | Release of toe joint, each.
28360 | Reconstruct cleft foot.
28430 | Treatment of ankle fracture.
28450 | Treat midfoot fracture, each.
28455 | Treat midfoot fracture, each.
28470 | Treat metatarsal fracture.
28475 | Treat metatarsal fracture.
28490 | Treat big toe fracture.
28495 | Treat big toe fracture.
28510 | Treatment of toe fracture.
28515 | Treatment of toe fracture.
28530 | Treat sesamoid bone fracture.
28540 | Treat foot dislocation.
28570 | Treat foot dislocation.
28600 | Treat foot dislocation.
28630 | Treat toe dislocation.
28660 | Treat toe dislocation.
30901 | Control of nosebleed.
31040 | Exploration behind upper jaw.
31502 | Change of windpipe airway.
31520 | Diagnostic laryngoscopy.
32960 | Therapeutic pneumothorax.
36493 | Repositioning of cvc.
37618 | Ligation of extremity artery.
40702 | Repair cleft lip/nasal.
40830 | Repair mouth laceration.
41822 | Excision of gum lesion.
41823 | Excision of gum lesion
42227 | Lengthening of palate.
42326 | Create salivary cyst drain.
42400 | Biopsy of salivary gland
42800 | Biopsy of throat.
42842 | Extensive surgery of throat
42844 | Extensive surgery of throat.
42970 | Control nose/throat bleeding
43020 | Incision of esophagus
43030 | Throat muscle surgery
43761 | Reposition gastrostomy tube.
45300 | Proctosigmoidoscopy dx.
45303 | Proctosigmoidoscopy dilate.
45330 | Diagnostic sigmoidoscopy
46604 | Anoscopy and dilation.
46614 | Anoscopy/control bleeding.
46900 | Destruction, anal lesion(s).
46910 | Destruction, anal lesion(s).
46916 | Cryosurgery, anal lesion(s).
49429 | Removal of shunt.
50590 | Lithotripsy.
51705 | Change of bladder tube
52265 | Cystoscopy and treatment
52301 | Cystoscopy and treatment
52339 | Deleted by CPT.
53025 | Incision of urethra.
53060 | Drainage of urethra abscess.
53852 | Prostatic rf thermotx.
54050 | Destruction, penis lesion(s).
54055 | Destruction, penis lesion(s).
54056 | Cryosurgery, penis lesion(s).
54402 | Deleted by CPT.
54407 | Deleted by CPT.
54409 | Deleted by CPT.
55450 | Ligation of sperm duct.
56311 | Deleted by CPT.
56312 | Deleted by CPT.
56313 | Deleted by CPT.
56314 | Deleted by CPT.
56318 | Deleted by CPT.
56320 | Deleted by CPT.
56346 | Deleted by CPT.
56353 | Deleted by CPT.
56355 | Deleted by CPT.
56501 | Destroy, vulva lesions, simp.
57284 | Repair paravaginal defect.
57288 | Repair bladder defect.
57460 | Cervix excision.
57555 | Remove cervix/repair vagina.
58345 | Reopen fallopian tube.
58970 | Retrieval of oocyte
59300 | Episiotomy or vaginal repair.
60100 | Biopsy of thyroid.
60210 | Partial thyroid excision.
60240 | Removal of thyroid
61000 | Remove cranial cavity fluid.
61001 | Remove cranial cavity fluid.
62292 | Injection into disk lesion.
62298 | Deleted by CPT
63615 | Remove lesion of spinal cord.
64555 | Implant neuroelectrodes.
64560 | Implant neuroelectrodes.
64565 | Implant neuroelectrodes.
64761 | Incision of pelvis nerve.
65286 | Repair of eye wound.
65450 | Treatment of corneal lesion.
65820 | Relieve inner eye pressure.
65855 | Laser surgery of eye.
65860 | Incise inner eye adhesions.
66761 | Revision of iris.
66762 | Revision of iris.
66770 | Removal of inner eye lesion.
66820 | Incision, secondary cataract.
67101 | Repair detached retina
67110 | Repair detached retina.
67208 | Treatment of retinal lesion.
67343 | Release eye tissue.
68100 | Biopsy of eyelid lining.
68110 | Remove eyelid lining lesion.
68135 | Remove eyelid lining lesion.
69433 | Create eardrum opening.

We are not adding to the ASC list CPT code 50590 Extracorporeal Shock Wave Lithotripsy (ESWL), for which we had proposed a payment of $2107 in the June 1998 proposed rule. In American Lithotripsy Society v. Sullivan, 785, F. Supp. 1035 (D.D.C. 1992), the District Court ordered that we “publish the data and other information we are relying on in setting a (lithotripsy) rate and allow time for comment before issuing a final notice * * *”. The data and other information that we would rely on in setting a payment rate for ESWL are part of the ratesetting methodology that we proposed in the June 1998 proposed rule. Because we are not making that ratesetting methodology final at this time, we might not be in compliance with the District Court order if we were to add CPT code 50590 to the ASC list in this final rule under the current payment rate structure. In addition, comments submitted by the American Lithotripsy Society opposed the $2,107 payment rate that we proposed in the June 1998 proposed rule. Therefore, we are not including CPT code 50590 among the additions to the ASC list that are implemented by this final rule.

III. Analysis of and Responses to Public Comments

In response to the publication of the June 12, 1998 proposed rule, we received approximately 13,000 comments, many of which were duplicate comments that were resubmitted each time we extended the comment period. We received comments from individual ASCs, physicians, health care workers, professional and trade associations, and medical societies and organizations. The majority of the comments addressed our proposal to adopt ambulatory payment classification (APC) groups as the basis for setting ASC payment rates. In addition, we received numerous comments regarding our proposal to package payment for corneal tissue into the payment rate for corneal transplant surgery. We also received numerous comments regarding proposed reductions in payment for gastroenterological procedures. Those comments will be addressed in a subsequent rule when we implement changes in the ASC ratesetting methodology. In this final rule with comment, we only respond to comments that address additions to and deletions from the list of approved procedures.

Overall, the commenters who addressed our proposed additions to and deletions from the ASC list favored the proposed additions. Most commenters supported expansion of the ASC list to the maximum possible extent to permit Medicare payment to ASCs for procedures that are performed on an outpatient basis in hospitals. We respond below to commenters who recommended the addition or deletion of specific CPT codes. In reviewing the comments regarding our proposed additions to and deletions from the ASC list, we consulted our medical advisors, and we took into account Congressional intent when the ASC benefit was enacted as well as the current standards for the ASC list that are codified in § 416.65.

As we explain above, we do not include in the list of ASC approved procedures, procedures currently performed on an ambulatory basis in a physician's office that do not generally require the more elaborate facilities of an ASC. Also, the ASC list does not include procedures that are appropriately performed in an inpatient hospital setting but would not be safely performed in an ASC, consistent with the criteria in § 416.65(b)(3).

We also recognized that there are some procedures that might be appropriately performed in ASC for the younger patient who is generally healthy. But for the larger number of beneficiaries whose health is more likely to be compromised by age or disability, an ASC may be a questionable setting for those same procedures. Therefore, we are adding to the ASC list only those procedures that can be safely performed in an ASC on the general Medicare population in at least a significant number of cases.

We believe that the ASC list resulting from the additions and deletions that we are implementing in this final rule with comment is an improvement over the existing list. We have updated the ASC list by adding a significant number of the procedures that we proposed to add in the June 1998 proposed rule as well as new CPT codes established since 1998 that are consistent with our criteria for the ASC list. The resulting updated list allows ASCs to furnish to Medicare beneficiaries surgical services that reflect the practice of contemporary surgery without compromising patient safety. We will continue to update the list through notice and comment within the biennial timeframe established under the statute. As part of the next biennial update, we will also consider proposing revised criteria to apply in determining which procedures are appropriate for the ASC list.

Comment: A number of commenters favored elimination of the ASC list. The commenters stated that the decision regarding where to perform a procedure should rest with the physician and the patient, not with CMS.

Response: Section 1833(i)(1) of the Act requires us to determine which surgical procedures are safely and appropriately performed in an ASC. Therefore, we cannot adopt this recommendation.

Comment: A national medical association commented that we should not add certain codes that we proposed to add because these procedures are hospital procedures and are not appropriate for same day surgery in an ASC. These procedures are CPT codes 57284 (paravaginal defect repair), 57288 (stress incontinence), 57555 (cervical stump excision), 58345 (fallopian tube catheter), and 57460 (colposcopy).

Response: After a review of our most recent claims data for site of service and an examination of the clinical nature of the surgical procedures in question, we agree with the commenter, and we are not adding these codes to the list.

Comment: The same commenter agreed with our proposal to add CPT codes 57291 (artificial vagina construction) and 57556 (cervical stump excision) to the ASC list and our proposal to delete CPT codes 56405 (vulva drainage) and 57800 (cervix dilation) from the ASC list.

Response: We agree with the commenter. We are adding CPT codes 57291 and 57556 to the ASC list and deleting CPT codes 56405 and 57800.

Comment: A medical specialty society commented that we should delete from the ASC list CPT codes 15842 (microsurgical muscle graft), 26035 (decompression fingers, injection injury), 26037 (decompressive fasciotomy, hand), 27440 (arthroplasty, knee, tibial plateau), 42225 (palatoplasty w. attached pharyngeal flap), 60220 (total thyroid lobectomy), and 60225 (total thyroid lobectomy). The commenter states that these procedures are hospital procedures and not appropriate for an ASC.

Response: We agree with the commenter and we are deleting these 7 procedures from the current list.

Comment: The same commenter disagreed with our proposal to add to the list the following procedures: CPT codes 42842 (extensive throat surgery), 42844 (extensive throat surgery), 57284 (paravaginal defect repair), 60210 (thyroid partial excision), and 60240 (thyroid removal). The commenter stated that these procedures are hospital procedures and not appropriate for same day surgery performance in an ASC. Another medical organization also recommended not adding CPT code 57284 to the list.

Response: Our medical staff have reviewed these codes and agree with the commenters. Therefore, we are not implementing these proposed additions to the list.

Comment: The same medical specialty society further stated that the following codes should be deleted from the ASC list: 15840 (face nerve palsy graft), 15841 (face nerve palsy graft), 15845 (skin and muscle repair, face), 19318 (large breast reduction), and 19340 (immediate breast prosthesis). The commenter stated these procedures are not appropriate for an ASC setting.

Response: Our medical staff have reviewed the clinical nature of these procedures and have determined that they may appropriately be performed in an ASC. Further, our 2001 claims data show that these procedures are being performed in a significant number of cases in an outpatient setting. Therefore, we are retaining these procedures on the ASC list.

Comment: The same commenter states that we should not add proposed CPT code 40700 (repair cleft lip, nasal), because this procedure is not appropriate for an ASC.

Response: Our 2001 claims data indicate that equal numbers of cases were reported as being performed in a hospital inpatient, hospital outpatient, and ASC setting. Our medical advisors reviewed the clinical nature of this procedure and determined that it is appropriately performed in an ASC setting. Therefore, we will add this code to the list.

Comment: Commenters suggested that we add to the ASC list the following CPT codes: 27096 (injection, sacroiliac joint), 62284 (myelography, injection), 62287 (Aspiration/decompression, nucleus pulposus), 62290 (discography injection, lumbar), 62291 (discography injection, cervical), 62292 (chemonucleolysis injection), 62298 (injection, other than anesthetic), 64640 (destruction by neurolytic agent, peripheral nerve), and 64714 (neuroplasty).

Response: Our medical staff reviewed the clinical nature of these codes and agreed that CPT codes 27096, 62292, and 62298 were appropriate additions to the ASC list. Note that in CY 2000, CPT code 62298 was replaced by code 62310, which we added to the ASC list in 2000 by program memorandum. CPT codes 27096 and 62292, while clinically appropriate for the list, would be significantly overpaid in the lowest ASC payment group, so we are not adding them to the ASC list. CPT code 64714 is already on the ASC list. CPT codes 62284, 62290 and 62291 are codes for injections used in connection with diagnostic imaging procedures that are not payable as ASC services. Therefore, we would not pay separately for these procedures in the ASC setting. According to our Medicare billing data, CPT 64640 is performed 68 percent of the time in a physician's office, so this procedure is not being added to the list. CPT 62287, which we proposed for addition to the list, will be added.

Comment: Some commenters believed that it was appropriate to add CPT codes 42415 (parotoid surgery), 31254 (partial ethmoid endoscopy), 31255 (ethmoid endoscopy), 31256 (nasal endoscopy with antrostomy), 31267 (nasal endoscopy with maxillary endoscopy), and 31276 (nasal endoscopy with frontal endoscopy) to the list. The commenters asserted that all of these procedures are suitable and routinely performed in an ASC setting.

Response: After review by clinical staff, we agree with the commenter and we are adding CPT code 42415 to the list. CPT codes 31254, 31255, 31256, 31267 and 31276 are currently on the ASC list and will remain on the list.

Comment: We received comments stating that certain laproscopic procedures should be added to the ASC list. They are: CPT codes 56340, 56341 and 56342 (laparoscopic cholecystectomy with and without cholangiography and common duct exploration) and CPT code 56348 (laparoscopic assisted vaginal hysterectomy). Commenters stated these procedures are routinely performed in an outpatient setting and would be appropriate for an ASC.

Response: Our medical staff determined that these procedures may be appropriately performed in an ASC for many non-Medicare beneficiaries in the 65-and-under age group. However, these procedures often involve an overnight stay for Medicare beneficiaries and they do not conform to our standard for ASC procedures in § 416.65(b)(ii). Therefore, we are not adding them to the ASC list.

Comment: Some commenters wrote that we should retain the following procedures proposed for deletion: CPT codes 51726 (Complex cystometrogram), 51772 (Urethra pressure profile), 51785 (Anal/urinary pressure study), 50392 (Insert kidney drain), 50393 (Insert ureteral tube), 50395 (Create passage for kidney), 50684 (Injection for ureter x-ray), 50690 (Injection for ureter x-ray), 51600 (Injection for bladder x-ray), 51605 (Preparation for bladder x-ray), and 51610 (Injection for bladder x-ray).

Response: Our medical staff reviewed these codes in light of the commenters' arguments against deleting them, and we agree that CPT codes 51726, 51772, 51785, 50392, 50393, and 50395 should be retained on the ASC list. CPT codes 50684, 50690, 51600, 51605, and 51610 are services that involve injections, which are packaged into imaging procedures that are not payable in an ASC, and we are making final their deletion from the ASC list.

Comment: Some of the same commenters also agreed with our proposal to delete CPT code 51725, Simple Cystometrogram and not add to the list CPT codes 51736 Simple Uroflowmetry and 51741 Complex Uroflowmetry.

Response: In the absence of disagreement from commenters, we are making our proposal regarding these codes final.

Comment: Another commenter recommended that we not remove the following CPT codes from the list: 50970, 50972, 50974, 50976, 50978, and 50980, all of which are ureteral endoscopy codes.

Response: We reviewed these procedures and we agree with the commenter that they are appropriate to the ASC setting and consistent with our criteria for the ASC list. Therefore, we are not removing these codes from the list.

Comment: A few commenters wanted us not to delete CPT codes 51005 (Aspiration of bladder) and 51010 (Aspiration of bladder). These commenters also wanted us to add the following codes to the ASC list: 54450 (Foreskin manipulation), 51000 (Aspiration bladder), 53600 (Dilate urethral stricture), 53601 (Dilate urethral stricture), 53621 (Dilate urethral stricture), 53660 (Dilation female urethra), 53661 (Subsequent dilation female urethra), 53675 (Catheterization, complicated), and 54200 (Injection procedure, Peyronie).

Response: We reviewed our utilization data and agree with the commenters that CPT code 51010 should remain on the ASC list. With the exception of CPT code 53675, all of the other procedures recommended by the commenters are performed more than 50 percent of the time in physicians' offices, some as frequently as 99 percent of the reported cases. Therefore, we are not adding these procedures to the list consistent with our current regulation at § 416.65(a)(2), which requires that the ASC list not include procedures that are commonly performed or that may be safely performed in physicians' offices. CPT code 53675, Complex catheterization, would be significantly overpaid in the lowest ASC payment group. Therefore, we are not adding this procedure to the list.

Comment: A few commenters opposed our proposal to remove the following codes from the ASC list: CPT codes 50520 (Closure of nephrocutaneous fistula), 50570 (Renal endoscopy), 50572 (Renal endoscopy), 50574 (Renal endoscopy), 50576 (Renal endoscopy), 50578 (Renal endoscopy), and 50580 (Renal endoscopy).

Response: These codes describe procedures that are not consistent with our criteria in section § 416.65(b)(3) and therefore are not appropriate to be performed in an ASC. Therefore, we are making our proposal final and we are deleting these codes from the list.

Comment: In our proposed rule we proposed to delete the following nerve injection CPT codes: 64410, 64415, 64417, 64420, 64421, 64430, 64442, 64443, 64510, 64520, 64530, 64600, 64605, 64610, 64620, 64622, 64623, 64630, and 64680. These proposed deletions prompted numerous comments from ASCs specializing in pain management and from interventional pain physicians. Commenters argued that concerns about patient safety supported retaining these nerve block injection codes on the ASC list. They stated that the minimally acceptable requirements for safe completion of these procedures include continuous monitoring of heart function, lung function and breathing. The placement of injections in the spinal area requires the highest infection control standards. In addition, fluoroscopic guidance is necessary to assure precise needle placement. Injections can provoke severe hypertension, chest pain, cardiac arrythmias, myocardial infarction, severe pain and vasovagal reactions. Risks include seizures, respiratory and cardiac arrest, hypotension, respiratory depression, pneumothorax, total spinal anesthesia, infection, local anesthetic toxicity, paralysis and death. Commenters argued that because of the risks associated with these procedures, they require the health and safety protections assured by the conditions for coverage of ASC services found in part 416 of the regulations.

A few commenters supported deletion of the nerve injection codes from the ASC list. These commenters stated that they are able to perform these nerve injections in their offices. However, these commenters also stated that they operate in environments with resuscitation facilities and radiological guidance, more typically found in an ASC or a hospital outpatient setting than in a physician's office.

Response: The preponderance of comments opposing deletion of these codes from the ASC list stressed that assuring patient safety requires monitoring and special equipment not customarily found in the physician office setting. Even the minority supporting deletion noted the need for special safety measures in their comments. In light of these comments, we have retained these procedures on the ASC list (with the exception of CPT codes 64442 and 64443, which have been deleted by CPT) because as required by the conditions for coverage in §§ 416.41 and 416.44, ASCs are specifically equipped to provide the level of patient care and monitoring needed to ensure patient health and safety when these procedures are performed. In addition, ASCs are required to have in place appropriate procedures to address emergencies should they occur.

IV. Provisions of the Final Regulations

This final rule with comment period makes additions to and deletions from the current list of Medicare approved ASC procedures. In addition, this final rule with comment period responds to comments received from the June 12, 1998 proposed rule (63 FR 32290) that addressed proposed additions to and deletions from the list of ASC approved procedures. This final rule with comment period implements requirements of section 1833(i)(1) and (2) of the Act.

The addendum that follows this preamble contains the complete list of surgical procedures that are approved for an ASC facility fee payment effective for services furnished on or after July 1, 2003. The addendum also designates those CPT codes that are additions to or deletions from the current ASC list. The CPT code for each procedure is listed in column 1. In column 2, the letter “A” indicates a code that is being added to the ASC in this final rule. The letter “A*” (with an asterisk) indicates a code added to CPT since 1998 that we are adding to the list but that we did not propose to add in the June 1998 proposed rule. CPT codes designated with “A*” are those for which we are soliciting comments. The letter “D” in column 2 indicates a code that is being deleted from the ASC list. Column 3 provides the short descriptor for the CPT code in column 1. Column 4 indicates the current payment group to which an approved code is assigned. Column 5 indicates the FY 2003 payment amount for the assigned payment group. We solicit comments on additions to the ASC list designated with “A*” in column 2 and the payment group to which these additions are assigned. The codes designated by “A*” in column 2 are new CPT codes that were added to CPT in 1999, 2000, 2001, 2002, and 2003 that are similar to procedures on the updated ASC list.

V. Collection of Information Requirements

This document does not impose information collection and recordkeeping requirements. Consequently, it need not be reviewed by the Office of Management and Budget under the authority of the Paperwork Reduction Act of 1995 (44 U.S.C. 35).

VI. Waiver of Proposed Rulemaking

We ordinarily publish a proposed notice in the Federal Register and invite public comment when we add to the ASC list HCPCS codes that describe new surgical procedures. The proposed notice includes a reference to the legal authority under which the additions to the list are proposed and a description of the subjects and issues involved. We solicit comment both on the appropriateness of performing the new procedures in an ASC and the payment rate that we propose as the ASC facility fee for the new procedures. This process can be waived, however, if the agency finds good cause that a notice-and-comment procedure is impracticable, unnecessary, or contrary to the public interest and incorporates a statement of the finding and its reasons in the rule that is issued.

For reasons that we explain elsewhere in this preamble, we have not previously issued a rule to make final the additions and deletions proposed in the June 12, 1998 proposed rule. For the same reasons, we have not issued proposed notices regarding the addition to the ASC list of new CPT codes that were created during the years since publication of the June 12 proposed rule. This final rule with comment adopts some provisions set forth in the June 12, 1998 proposed rule (63 FR 32290). In this final rule with comment, we are also making certain additions to the ASC list that were not proposed in the June 12 rule and that are subject to comment. Specifically, we are adding new CPT codes for surgical procedures that were added to CPT in 1999, 2000, 2001, 2002, and 2003, and we are assigning those codes to an existing ASC payment group.

We are making the addition of these new CPT codes to the ASC list effective for services furnished on or after July 1, 2003 because we believe that were we not to add them in this final rule, we would limit beneficiary access to surgical procedures that can be appropriately performed in the ASC setting. If these codes are not payable under the ASC benefit, beneficiaries are limited to receiving the services that they describe in a hospital setting. Also, ASCs cannot receive a facility fee for these services under the Medicare ASC benefit if we do not add them to the list. Therefore, delay in adding these new surgical procedures to the ASC list is contrary to the public interest.

Also, it is impracticable not to add the applicable new CPT codes created from 1999 through 2003 until after we have received public comments, analyzed those comments, and issued a final rule. To do so could mean that the new CPT codes would not be made final under the ASC benefit until 2004, at the earliest.

For these reasons, we find good cause to waive the notice of proposed rulemaking and to issue this final rule with comment. We are providing a 60-day public comment period regarding the addition of the new CPT codes, designated by an “A*” in the addendum and the payment group to which these codes are assigned. We will respond to timely comments in the next final notice or final rule that we issue regarding the ASC benefit.

VII. Regulatory Impact Statement

A. Overall Impact

We have examined the impact of this rule as required by Executive Order 12866 (September 1993, Regulatory Planning and Review), the Regulatory Flexibility Act (RFA) (September 16, 1980, Pub. L. 96-354), Section 1102(b) of the Social Security Act, the Unfunded Mandates Reform Act of 1995 (Pub. L. 104-4), and Executive Order 13132.

Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). Our Office of the Actuary has prepared a fiscal impact estimate. As shown in the table below, for fiscal years 2003 through 2007, the cost to the Medicare program is estimated to be $5 million per year. Therefore, this is not considered a major rule.

Fiscal year | Cost ¹
2003 | $5
2004 | 5
2005 | 5
2006 | 5
2007 | 5
¹ Cost in millions, rounded to the nearest 5 million.

The RFA requires agencies to analyze options for regulatory relief of small businesses. For purposes of the RFA, small entities include small businesses, nonprofit organizations, and government agencies. Most hospitals and most other providers and suppliers are small entities, either by nonprofit status or by having revenues of $6 to $29 million in any 1 year. According to the small business associations, approximately 73 percent of all ASCs are considered small entities by having revenues of $11.5 million or less. Individuals and States are not included in the definition of a small entity.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area and has fewer than 100 beds. This rule does not have a significant impact on the operations of a substantial number of small rural hospitals.

Section 202 of the Unfunded Mandates Reform Act of 1995 also requires that agencies assess anticipated costs and benefits before issuing any rule that may result in expenditure in any 1 year by State, local, or tribal governments, in the aggregate, or by the private sector, of $110 million. This rule will not have an effect on the governments mentioned and the private sector costs will be less than the $110 threshold.

Executive Order 13132 establishes certain requirements that an agency must meet when it promulgates a final rule that imposes substantial direct requirement costs on State and local governments, preempts State law, or otherwise has Federalism implications. This rule will not have a substantial effect on State or local governments.

B. Anticipated Effects

The entities affected by this final rule with comment period are Medicare certified ASCs and beneficiaries. No other providers are affected. This rule will not affect state or local governments or the private sector other than ASCs. There are more than 3,000 ASCs currently certified by Medicare, nearly three-quarters of which fit the definition of a “small entity.”

The result of this rule is to increase the number of ASC procedures approved for Medicare payment by approximately 300, thereby making more surgical services payable by Medicare in an ASC available to beneficiaries. ASCs will benefit from our expanding the list of Medicare approved ASC procedures because the number of services for which Medicare will pay a facility fee will increase as a result. Currently, if ASCs perform these procedures, Medicare does not allow payment of a facility fee. Our adding these codes to the ASC list also enables ASCs to serve a greater number of beneficiaries by being able to offer access to an increased number of surgical services. The number of claims for ASC services would increase. No specific provisions of this final rule have yet been implemented. If this final rule is not issued, beneficiaries would be denied access to approximately 300 surgical procedures in the ASC setting and this would limit beneficiary choice.

Some individuals have advocated the elimination of the ASC list on the basis that the decision regarding where to perform a procedure rests ultimately with the physician. These same individuals support payment of an ASC facility fee for any surgical procedure covered by Medicare in a clinic or hospital outpatient setting. The requirements for an ASC list are imposed by the statute, so we cannot adopt this recommendation.

ASCs that specialize in dermatology, gastroenterology, and orthopedics may object to our not adding certain procedures that we proposed in our June 1998 proposed rule. In particular, we are not adding procedures performed more than 50 percent of the time in a physician's office, procedures that are not appropriately or safely performed in an ambulatory setting, or procedures that would otherwise have met the criteria for inclusion on the ASC list except that they would be significantly overpaid in the lowest ASC payment group. We have determined that the adverse economic impact on the Medicare program that could result from a shift of such services to an ASC setting outweighs the potential negative reaction of these medical specialties.

ASCs that furnish extracorporeal shockwave lithotripsy (ESWL) services may also object to our not adding this procedure to the ASC list. However, as we explained above, because we are not updating the ASC payment rates and ratesetting methodology in this final rule, we would not be in compliance with the District Court order issued in American Lithotripsy Society v. Sullivan, 785, F. Supp. 1035 (D.D.C. 1992) if we were to add ESWL to the ASC list without further data and information. Overall, we believe the increased beneficiary access to surgical services and the expansion of the ASC list that will result from this final rule outweighs potential objections to our not including certain additions that were proposed in 1998 to the ASC list.

For the above reasons, we are not preparing analyses for either the RFA or section 1102(b) of the Act because we have determined, and we certify, that this rule would not have a significant economic impact on a substantial number of small entities or a significant impact on the operations of a substantial number of small rural hospitals.

C. Alternatives Considered

As stated above, we are issuing this final rule with comment to implement additions to and deletions from the ASC list proposed in the June 1998 proposed rule. However, we are not implementing the ratesetting method, rebased payment rates, and changes in the regulations that were also proposed in the June 1998 proposed rule. We considered not updating the ASC list until we completed a survey of ASC costs to use in rebasing the ASC payment rates. However, we decided against this approach because it could have resulted in delaying the update of the list for several years while we conducted the survey and audited and compiled the data upon which to rebase the rates.

We considered basing payment rates for procedures being added to the ASC list in this final rule on the ASC payment group that most closely approximated the payment amount for the same procedures under the hospital outpatient prospective payment system (OPPS). However, the statute requires that payment rates be tied to ASC, not hospital outpatient costs, so we decided, as explained previously in this preamble, to match the additions to the list to procedures already on the list that are similar in terms of clinical work and resource inputs and to assign the new code to the same payment group as the current code. This approach better maintains internal consistency in ASC payment rates among codes on the list that are similar.

In accordance with the provisions of Executive Order 12866, this regulation was reviewed by the Office of Management and Budget.

(Catalog of Federal Domestic Assistance Program No. 93.774, Medicare—Supplementary Medical Insurance Program)
Dated: October 16, 2002.
Thomas A. Scully,
Administrator, Centers for Medicare and Medicaid Services.
Approved: February 14, 2003.
Tommy G. Thompson,
Secretary.

Addendum: List of Medicare Approved Ambulatory Surgical Center Procedures
HCPCS Code | Status | Short descriptor | Pymt. group | Pymt. amount
10121 | A | Remove foreign body | 2 | 446
10180 |  | Complex drainage, wound | 2 | 446
11010 | A | Debride skin, fx | 2 | 446
11011 | A | Debride skin/muscle, fx | 2 | 446
11012 | A | Debride skin/muscle/bone, fx | 2 | 446
11042 |  | Debride skin/tissue | 2 | 446
11043 |  | Debride tissue/muscle | 2 | 446
11044 |  | Debride tissue/muscle/bone | 2 | 446
11404 |  | Removal of skin lesion | 1 | 333
11406 |  | Removal of skin lesion | 2 | 446
11424 |  | Removal of skin lesion | 2 | 446
11426 |  | Removal of skin lesion | 2 | 446
11444 |  | Removal of skin lesion | 1 | 333
11446 |  | Removal of skin lesion | 2 | 446
11450 |  | Removal, sweat gland lesion | 2 | 446
11451 |  | Removal, sweat gland lesion | 2 | 446
11462 |  | Removal, sweat gland lesion | 2 | 446
11463 |  | Removal, sweat gland lesion | 2 | 446
11470 |  | Removal, sweat gland lesion | 2 | 446
11471 |  | Removal, sweat gland lesion | 2 | 446
11604 |  | Removal of skin lesion | 2 | 446
11606 |  | Removal of skin lesion | 2 | 446
11624 |  | Removal of skin lesion | 2 | 446
11626 |  | Removal of skin lesion | 2 | 446
11644 |  | Removal of skin lesion | 2 | 446
11646 |  | Removal of skin lesion | 2 | 446
11770 |  | Removal of pilonidal lesion | 3 | 510
11771 |  | Removal of pilonidal lesion | 3 | 510
11772 |  | Removal of pilonidal lesion | 3 | 510
11960 |  | Insert tissue expander(s) | 2 | 446
11970 |  | Replace tissue expander | 3 | 510
11971 |  | Remove tissue expander(s) | 1 | 333
12005 |  | Repair superficial wound(s) | 2 | 446
12006 |  | Repair superficial wound(s) | 2 | 446
12007 |  | Repair superficial wound(s) | 2 | 446
12016 |  | Repair superficial wound(s) | 2 | 446
12017 |  | Repair superficial wound(s) | 2 | 446
12018 |  | Repair superficial wound(s) | 2 | 446
12020 |  | Closure of split wound | 1 | 333
12021 |  | Closure of split wound | 1 | 333
12034 |  | Layer closure of wound(s) | 2 | 446
12035 |  | Layer closure of wound(s) | 2 | 446
12036 |  | Layer closure of wound(s) | 2 | 446
12037 |  | Layer closure of wound(s) | 2 | 446
12044 |  | Layer closure of wound(s) | 2 | 446
12045 |  | Layer closure of wound(s) | 2 | 446
12046 |  | Layer closure of wound(s) | 2 | 446
12047 |  | Layer closure of wound(s) | 2 | 446
12054 |  | Layer closure of wound(s) | 2 | 446
12055 |  | Layer closure of wound(s) | 2 | 446
12056 |  | Layer closure of wound(s) | 2 | 446
12057 |  | Layer closure of wound(s) | 2 | 446
13100 |  | Repair of wound or lesion | 2 | 446
13101 |  | Repair of wound or lesion | 3 | 510
13120 |  | Repair of wound or lesion | 2 | 446
13121 |  | Repair of wound or lesion | 3 | 510
13131 |  | Repair of wound or lesion | 2 | 446
13132 |  | Repair of wound or lesion | 3 | 510
13150 |  | Repair of wound or lesion | 3 | 510
13151 |  | Repair of wound or lesion | 3 | 510
13152 |  | Repair of wound or lesion | 3 | 510
13160 |  | Late closure of wound | 2 | 446
14000 |  | Skin tissue rearrangement | 2 | 446
14001 |  | Skin tissue rearrangement | 3 | 510
14020 |  | Skin tissue rearrangement | 3 | 510
14021 |  | Skin tissue rearrangement | 3 | 510
14040 |  | Skin tissue rearrangement | 2 | 446
14041 |  | Skin tissue rearrangement | 3 | 510
14060 |  | Skin tissue rearrangement | 3 | 510
14061 |  | Skin tissue rearrangement | 3 | 510
14300 |  | Skin tissue rearrangement | 4 | 630
14350 |  | Skin tissue rearrangement | 3 | 510
15000 |  | Skin graft | 2 | 446
15050 |  | Skin pinch graft | 2 | 446
15100 |  | Skin split graft | 2 | 446
15101 |  | Skin split graft add-on | 3 | 510
15120 |  | Skin split graft | 2 | 446
15121 |  | Skin split graft add-on | 3 | 510
15200 |  | Skin full graft | 3 | 510
15201 |  | Skin full graft add-on | 2 | 446
15220 |  | Skin full graft | 2 | 446
15221 |  | Skin full graft add-on | 2 | 446
15240 |  | Skin full graft | 3 | 510
15241 |  | Skin full graft add-on | 3 | 510
15260 |  | Skin full graft | 2 | 446
15261 |  | Skin full graft add-on | 2 | 446
15350 |  | Skin homograft | 2 | 446
15351 | A* | Skin homograft add-on | 2 | 446
15400 |  | Skin heterograft | 2 | 446
15401 | A* | Skin heterograft add-on | 2 | 446
15570 |  | Form Skin pedicle flap | 3 | 510
15572 |  | Form Skin pedicle flap | 3 | 510
15574 |  | Form Skin pedicle flap | 3 | 510
15576 |  | Form Skin pedicle flap | 3 | 510
15600 |  | Skin graft | 3 | 510
15610 |  | Skin graft | 3 | 510
15620 |  | Skin graft | 4 | 630
15630 |  | Skin graft | 3 | 510
15650 |  | Transfer skin pedicle flap | 5 | 717
15732 |  | Muscle-skin graft, head/neck | 3 | 510
15734 |  | Muscle-skin graft, trunk | 3 | 510
15736 |  | Muscle-skin graft, arm | 3 | 510
15738 |  | Muscle-skin graft, leg | 3 | 510
15740 |  | Island pedicle flap graft | 2 | 446
15750 |  | Neurovascular pedicle graft | 2 | 446
15756 | D | Free muscle flap, microvasc | 3 | 510
15757 | D | Free skin flap, microvasc | 3 | 510
15758 | D | Free fascial flap, microvasc | 3 | 510
15760 |  | Composite skin graft | 2 | 446
15770 |  | Derma-fat-fascia graft | 3 | 510
15775 | A | Hair transplant punch grafts | 3 | 510
15776 | A | Hair transplant punch grafts | 3 | 510
15820 | A | Revision of lower eyelid | 3 | 510
15821 | A | Revision of lower eyelid | 3 | 510
15822 | A | Revision of upper eyelid | 3 | 510
15823 | A | Revision of upper eyelid | 5 | 717
15824 | A | Removal of forehead wrinkles | 3 | 510
15825 | A | Removal of neck wrinkles | 3 | 510
15826 | A | Removal of brow wrinkles | 3 | 510
15828 | A | Removal of face wrinkles | 3 | 510
15829 | A | Removal of skin wrinkles | 5 | 717
15831 | A | Excise excessive skin tissue | 3 | 510
15832 | A | Excise excessive skin tissue | 3 | 510
15833 | A | Excise excessive skin tissue | 3 | 510
15834 | A | Excise excessive skin tissue | 3 | 510
15835 | A | Excise excessive skin tissue | 3 | 510
15840 |  | Graft for face nerve palsy | 4 | 630
15841 |  | Graft for face nerve palsy | 4 | 630
15842 | D | Flap for face nerve palsy | 4 | 630
15845 |  | Skin and muscle repair, face | 4 | 630
15876 | A | Suction assisted lipectomy | 3 | 510
15877 | A | Suction assisted lipectomy | 3 | 510
15878 | A | Suction assisted lipectomy | 3 | 510
15879 | A | Suction assisted lipectomy | 3 | 510
15920 |  | Removal of tail bone ulcer | 3 | 510
15922 |  | Removal of tail bone ulcer | 4 | 630
15931 |  | Remove sacrum pressure sore | 3 | 510
15933 |  | Remove sacrum pressure sore | 3 | 510
15934 |  | Remove sacrum pressure sore | 3 | 510
15935 |  | Remove sacrum pressure sore | 4 | 630
15936 |  | Remove sacrum pressure sore | 4 | 630
15937 |  | Remove sacrum pressure sore | 4 | 630
15940 |  | Remove hip pressure sore | 3 | 510
15941 |  | Remove hip pressure sore | 3 | 510
15944 |  | Remove hip pressure sore | 3 | 510
15945 |  | Remove hip pressure sore | 4 | 630
15946 |  | Remove hip pressure sore | 4 | 630
15950 |  | Remove thigh pressure sore | 3 | 510
15951 |  | Remove thigh pressure sore | 4 | 630
15952 |  | Remove thigh pressure sore | 3 | 510
15953 |  | Remove thigh pressure sore | 4 | 630
15956 |  | Remove thigh pressure sore | 3 | 510
15958 |  | Remove thigh pressure sore | 4 | 630
16015 |  | Treatment of burn(s) | 2 | 446
16030 | D | Treatment of burn(s) | 1 | 333
16035 | D | Incision of burn scab, initi | 2 | 446
19020 |  | Incision of breast lesion | 2 | 446
19100 |  | Bx breast percut w/o image | 1 | 333
19101 |  | Biopsy of breast, open | 2 | 446
19102 |  | Bx breast percut w/image | 2 | 446
19103 |  | Bx breast percut w/device | 2 | 446
19110 |  | Nipple exploration | 2 | 446
19112 |  | Excise breast duct fistula | 3 | 510
19120 |  | Removal of breast lesion | 3 | 510
19125 |  | Excision, breast lesion | 3 | 510
19126 |  | Excision, addl breast lesion | 3 | 510
19140 |  | Removal of breast tissue | 4 | 630
19160 |  | Removal of breast tissue | 3 | 510
19162 |  | Remove breast tissue, nodes | 7 | 995
19180 |  | Removal of breast | 4 | 630
19182 |  | Removal of breast | 4 | 630
19260 | D | Removal of chest wall lesion | 5 | 717
19290 |  | Place needle wire, breast | 1 | 333
19291 |  | Place needle wire, breast | 1 | 333
19316 | A | Suspension of breast | 4 | 630
19318 |  | Reduction of large breast | 4 | 630
19324 | A | Enlarge breast | 4 | 630
19325 | A | Enlarge breast with implant | 9 | 1339
19328 |  | Removal of breast implant | 1 | 333
19330 |  | Removal of implant material | 1 | 333
19340 |  | Immediate breast prosthesis | 2 | 446
19342 |  | Delayed breast prosthesis | 3 | 510
19350 |  | Breast reconstruction | 4 | 630
19355 | A | Correct inverted nipple(s) | 4 | 630
19357 |  | Breast reconstruction | 5 | 717
19364 | D | Breast reconstruction | 5 | 717
19366 |  | Breast reconstruction | 5 | 717
19370 |  | Surgery of breast capsule | 4 | 630
19371 |  | Removal of breast capsule | 4 | 630
19380 |  | Revise breast reconstruction | 5 | 717
20005 |  | Incision of deep abscess | 2 | 446
20200 |  | Muscle biopsy | 2 | 446
20205 |  | Deep muscle biopsy | 3 | 510
20206 |  | Needle biopsy, muscle | 1 | 333
20220 |  | Bone biopsy, trocar/needle | 1 | 333
20225 |  | Bone biopsy, trocar/needle | 2 | 446
20240 |  | Bone biopsy, excisional | 2 | 446
20245 |  | Bone biopsy, excisional | 3 | 510
20250 |  | Open bone biopsy | 3 | 510
20251 |  | Open bone biopsy | 3 | 510
20525 |  | Removal of foreign body | 3 | 510
20650 |  | Insert and remove bone pin | 3 | 510
20660 | D | Apply, remove fixation device | 2 | 446
20661 | D | Application of head brace | 3 | 510
20662 | D | Application of pelvis brace | 3 | 510
20663 | D | Application of thigh brace | 3 | 510
20665 | D | Removal of fixation device | 1 | 333
20670 |  | Removal of support implant | 1 | 333
20680 |  | Removal of support implant | 3 | 510
20690 |  | Apply bone fixation device | 2 | 446
20692 | A | Apply bone fixation device | 3 | 510
20693 | A | Adjust bone fixation device | 3 | 510
20694 |  | Remove bone fixation device | 1 | 333
20900 |  | Removal of bone for graft | 3 | 510
20902 |  | Removal of bone for graft | 4 | 630
20910 |  | Remove cartilage for graft | 3 | 510
20912 |  | Remove cartilage for graft | 3 | 510
20920 |  | Removal of fascia for graft | 4 | 630
20922 |  | Removal of fascia for graft | 3 | 510
20924 |  | Removal of tendon for graft | 4 | 630
20926 |  | Removal of tissue for graft | 4 | 630
20955 | D | Fibula bone graft, microvasc | 4 | 630
20962 | D | Other bone graft, microvasc | 4 | 630
20969 | D | Bone/skin graft, microvasc | 4 | 630
20970 | D | Bone/skin graft, iliac crest | 4 | 630
20972 | D | Bone/skin graft, metatarsal | 4 | 630
20973 | D | Bone/skin graft, great toe | 4 | 630
20975 |  | Electrical bone stimulation | 2 | 446
21010 |  | Incision of jaw joint | 2 | 446
21015 | A | Resection of facial tumor | 3 | 510
21025 |  | Excision of bone, lower jaw | 2 | 446
21026 |  | Excision of facial bone(s) | 2 | 446
21029 | A | Contour of face bone lesion | 2 | 446
21034 |  | Removal of face bone lesion | 3 | 510
21040 |  | Removal of jaw bone lesion | 2 | 446
21041 | D | Removal of jaw bone lesion | 2 | 446
21044 |  | Removal of jaw bone lesion | 2 | 446
21046 | A | Excision, benign tumor, mandible | 2 | 446
21047 | A | Excision, benign tumor, mandible | 2 | 446
21050 |  | Removal of jaw joint | 3 | 510
21060 |  | Remove jaw joint cartilage | 2 | 446
21070 |  | Remove coronoid process | 3 | 510
21100 |  | Maxillofacial fixation | 2 | 446
21121 | A | Reconstruction of chin | 7 | 995
21122 | A | Reconstruction of chin | 7 | 995
21123 | A | Reconstruction of chin | 7 | 995
21127 | A | Augmentation, lower jaw bone | 9 | 1339
21181 | A | Contour cranial bone lesion | 7 | 995
21206 |  | Reconstruct upper jaw bone | 5 | 717
21208 |  | Augmentation of facial bones | 7 | 995
21209 |  | Reduction of facial bones | 5 | 717
21210 |  | Face bone graft | 7 | 995
21215 |  | Lower jaw bone graft | 7 | 995
21230 |  | Rib cartilage graft | 7 | 995
21235 |  | Ear cartilage graft | 7 | 995
21240 |  | Reconstruction of jaw joint | 4 | 630
21242 |  | Reconstruction of jaw joint | 5 | 717
21243 |  | Reconstruction of jaw joint | 5 | 717
21244 |  | Reconstruction of lower jaw | 7 | 995
21245 |  | Reconstruction of jaw | 7 | 995
21246 |  | Reconstruction of jaw | 7 | 995
21248 |  | Reconstruction of jaw | 7 | 995
21249 |  | Reconstruction of jaw | 7 | 995
21267 |  | Revise eye sockets | 7 | 995
21270 |  | Augmentation, cheek bone | 5 | 717
21275 |  | Revision, orbitofacial bones | 7 | 995
21280 |  | Revision of eyelid | 5 | 717
21282 |  | Revision of eyelid | 5 | 717
21295 | A | Reconst lwr jaw w/o fixation | 1 | 333
21296 | A | Reconst lwr jaw w/fixation | 1 | 333
21300 |  | Treatment of skull fracture | 2 | 446
21310 |  | Treatment of nose fracture | 2 | 446
21315 |  | Treatment of nose fracture | 2 | 446
21320 |  | Treatment of nose fracture | 2 | 446
21325 |  | Treatment of nose fracture | 4 | 630
21330 |  | Treatment of nose fracture | 5 | 717
21335 |  | Treatment of nose fracture | 7 | 995
21336 | A | Treat nasal septal fracture | 4 | 630
21337 |  | Treat nasal septal fracture | 2 | 446
21338 |  | Treat nasoethmoid fracture | 4 | 630
21339 |  | Treat nasoethmoid fracture | 5 | 717
21340 |  | Treatment of nose fracture | 4 | 630
21343 | D | Treatment of sinus fracture | 5 | 717
21345 | A | Treat nose/jaw fracture | 7 | 995
21355 |  | Treat cheek bone fracture | 3 | 510
21360 | D | Treat cheek bone fracture | 4 | 630
21365 |  | Treat cheek bone fracture | 5 | 717
21385 | D | Treat eye socket fracture | 5 | 717
21386 | D | Treat eye socket fracture | 5 | 717
21387 | D | Treat eye socket fracture | 5 | 717
21390 | D | Treat eye socket fracture | 7 | 995
21395 | D | Treat eye socket fracture | 7 | 995
21400 |  | Treat eye socket fracture | 2 | 446
21401 |  | Treat eye socket fracture | 3 | 510
21406 | D | Treat eye socket fracture | 4 | 630
21407 | D | Treat eye socket fracture | 5 | 717
21421 |  | Treat mouth roof fracture | 4 | 630
21422 | D | Treat mouth roof fracture | 5 | 717
21440 |  | Treat dental ridge fracture | 3 | 510
21445 |  | Treat dental ridge fracture | 4 | 630
21450 |  | Treat lower jaw fracture | 3 | 510
21451 |  | Treat lower jaw fracture | 4 | 630
21452 |  | Treat lower jaw fracture | 2 | 446
21453 |  | Treat lower jaw fracture | 3 | 510
21454 |  | Treat lower jaw fracture | 5 | 717
21461 |  | Treat lower jaw fracture | 4 | 630
21462 |  | Treat lower jaw fracture | 5 | 717
21465 |  | Treat lower jaw fracture | 4 | 630
21470 | D | Treat lower jaw fracture | 5 | 717
21480 |  | Reset dislocated jaw | 1 | 333
21485 |  | Reset dislocated jaw | 2 | 446
21490 |  | Repair dislocated jaw | 3 | 510
21493 |  | Treat hyoid bone fracture | 3 | 510
21494 |  | Treat hyoid bone fracture | 4 | 630
21495 | D | Treat hyoid bone fracture | 4 | 630
21497 |  | Interdental wiring | 2 | 446
21501 |  | Drain neck/chest lesion | 2 | 446
21502 |  | Drain chest lesion | 2 | 446
21510 | D | Drainage of bone lesion | 3 | 510
21550 | D | Biopsy of neck/chest | 1 | 333
21555 |  | Remove lesion, neck/chest | 2 | 446
21556 |  | Remove lesion, neck/chest | 2 | 446
21600 |  | Partial removal of rib | 2 | 446
21610 |  | Partial removal of rib | 2 | 446
21620 | D | Partial removal of sternum | 2 | 446
21700 |  | Revision of neck muscle | 2 | 446
21720 |  | Revision of neck muscle | 3 | 510
21725 |  | Revision of neck muscle | 3 | 510
21800 |  | Treatment of rib fracture | 1 | 333
21805 |  | Treatment of rib fracture | 2 | 446
21810 | D | Treatment of rib fracture(s) | 2 | 446
21820 |  | Treat sternum fracture | 1 | 333
21920 | D | Biopsy soft tissue of back | 1 | 333
21925 |  | Biopsy soft tissue of back | 2 | 446
21930 |  | Remove lesion, back or flank | 2 | 446
21935 |  | Remove tumor, back | 3 | 510
22100 | D | Remove part of neck vertebra | 3 | 510
22101 | D | Remove part, thorax vertebra | 3 | 510
22102 | D | Remove part, lumbar vertebra | 3 | 510
22103 | D | Remove extra spine segment | 3 | 510
22305 |  | Treat spine process fracture | 1 | 333
22310 |  | Treat spine fracture | 1 | 333
22315 |  | Treat spine fracture | 2 | 446
22325 | D | Treat spine fracture | 3 | 510
22326 | D | Treat neck spine fracture | 3 | 510
22327 | D | Treat thorax spine fracture | 3 | 510
22328 | D | Treat each add spine fx | 3 | 510
22505 |  | Manipulation of spine | 2 | 446
22900 |  | Remove abdominal wall lesion | 4 | 630
23000 |  | Removal of calcium deposits | 2 | 446
23020 |  | Release shoulder joint | 2 | 446
23030 |  | Drain shoulder lesion | 1 | 333
23031 | A | Drain shoulder bursa | 3 | 510
23035 |  | Drain shoulder bone lesion | 3 | 510
23040 |  | Exploratory shoulder surgery | 3 | 510
23044 |  | Exploratory shoulder surgery | 4 | 630
23065 | D | Biopsy shoulder tissues | 1 | 333
23066 |  | Biopsy shoulder tissues | 2 | 446
23075 |  | Removal of shoulder lesion | 2 | 446
23076 |  | Removal of shoulder lesion | 2 | 446
23077 |  | Remove tumor of shoulder | 3 | 510
23100 |  | Biopsy of shoulder joint | 2 | 446
23101 |  | Shoulder joint surgery | 7 | 995
23105 |  | Remove shoulder joint lining | 4 | 630
23106 |  | Incision of collarbone joint | 4 | 630
23107 |  | Explore treat shoulder joint | 4 | 630
23120 |  | Partial removal, collar bone | 5 | 717
23125 |  | Removal of collar bone | 5 | 717
23130 |  | Remove shoulder bone, part | 5 | 717
23140 |  | Removal of bone lesion | 4 | 630
23145 |  | Removal of bone lesion | 5 | 717
23146 |  | Removal of bone lesion | 5 | 717
23150 |  | Removal of humerus lesion | 4 | 630
23155 |  | Removal of humerus lesion | 5 | 717
23156 |  | Removal of humerus lesion | 5 | 717
23170 |  | Remove collar bone lesion | 2 | 446
23172 |  | Remove shoulder blade lesion | 2 | 446
23174 |  | Remove humerus lesion | 2 | 446
23180 |  | Remove collar bone lesion | 4 | 630
23182 |  | Remove shoulder blade lesion | 4 | 630
23184 |  | Remove humerus lesion | 4 | 630
23190 |  | Partial removal of scapula | 4 | 630
23195 |  | Removal of head of humerus | 5 | 717
23330 |  | Remove shoulder foreign body | 1 | 333
23331 |  | Remove shoulder foreign body | 1 | 333
23395 |  | Muscle transfer, shoulder/arm | 5 | 717
23397 |  | Muscle transfers | 7 | 995
23400 |  | Fixation of shoulder blade | 7 | 995
23405 |  | Incision of tendon & muscle | 2 | 446
23406 |  | Incise tendon(s) & muscle(s) | 2 | 446
23410 |  | Repair of tendon(s) | 5 | 717
23412 |  | Repair of tendon(s) | 7 | 995
23415 |  | Release of shoulder ligament | 5 | 717
23420 |  | Repair of shoulder | 7 | 995
23430 |  | Repair biceps tendon | 4 | 630
23440 |  | Remove/transplant tendon | 4 | 630
23450 |  | Repair shoulder capsule | 5 | 717
23455 |  | Repair shoulder capsule | 7 | 995
23460 |  | Repair shoulder capsule | 5 | 717
23462 |  | Repair shoulder capsule | 7 | 995
23465 |  | Repair shoulder capsule | 5 | 717
23466 |  | Repair shoulder capsule | 7 | 995
23480 |  | Revision of collar bone | 4 | 630
23485 |  | Revision of collar bone | 7 | 995
23490 |  | Reinforce clavicle | 3 | 510
23491 |  | Reinforce shoulder bones | 3 | 510
23500 |  | Treat clavicle fracture | 1 | 333
23505 |  | Treat clavicle fracture | 1 | 333
23515 |  | Treat clavicle fracture | 3 | 510
23520 |  | Treat clavicle dislocation | 1 | 333
23525 |  | Treat clavicle dislocation | 1 | 333
23530 |  | Treat clavicle dislocation | 3 | 510
23532 |  | Treat clavicle dislocation | 4 | 630
23540 |  | Treat clavicle dislocation | 1 | 333
23545 |  | Treat clavicle dislocation | 1 | 333
23550 |  | Treat clavicle dislocation | 3 | 510
23552 |  | Treat clavicle dislocation | 4 | 630
23570 |  | Treat shoulder blade fx | 1 | 333
23575 |  | Treat shoulder blade fx | 1 | 333
23585 |  | Treat scapula fracture | 3 | 510
23600 |  | Treat humerus fracture | 1 | 333
23605 |  | Treat humerus fracture | 2 | 446
23615 |  | Treat humerus fracture | 4 | 630
23616 |  | Treat humerus fracture | 4 | 630
23620 |  | Treat humerus fracture | 1 | 333
23625 |  | Treat humerus fracture | 2 | 446
23630 |  | Treat humerus fracture | 5 | 717
23650 |  | Treat shoulder dislocation | 1 | 333
23655 |  | Treat shoulder dislocation | 1 | 333
23660 |  | Treat shoulder dislocation | 3 | 510
23665 |  | Treat dislocation/fracture | 2 | 446
23670 |  | Treat dislocation/fracture | 3 | 510
23675 |  | Treat dislocation/fracture | 2 | 446
23680 |  | Treat dislocation/fracture | 3 | 510
23700 |  | Fixation of shoulder | 1 | 333
23800 |  | Fusion of shoulder joint | 4 | 630
23802 |  | Fusion of shoulder joint | 7 | 995
23921 |  | Amputation follow-up surgery | 3 | 510
23930 |  | Drainage of arm lesion | 1 | 333
23931 |  | Drainage of arm bursa | 2 | 446
23935 |  | Drain arm/elbow bone lesion | 2 | 446
24000 |  | Exploratory elbow surgery | 4 | 630
24006 | A | Release elbow joint | 4 | 630
24065 | D | Biopsy arm/elbow soft tissue | 1 | 333
24066 |  | Biopsy arm/elbow soft tissue | 2 | 446
24075 |  | Remove arm/elbow lesion | 2 | 446
24076 |  | Remove arm/elbow lesion | 2 | 446
24077 |  | Remove tumor of arm/elbow | 3 | 510
24100 |  | Biopsy elbow joint lining | 1 | 333
24101 |  | Explore/treat elbow joint | 4 | 630
24102 |  | Remove elbow joint lining | 4 | 630
24105 |  | Removal of elbow bursa | 3 | 510
24110 |  | Remove humerus lesion | 2 | 446
24115 |  | Remove/graft bone lesion | 3 | 510
24116 |  | Remove/graft bone lesion | 3 | 510
24120 |  | Remove elbow lesion | 3 | 510
24125 |  | Remove/graft bone lesion | 3 | 510
24126 |  | Remove/graft bone lesion | 3 | 510
24130 |  | Removal of head of radius | 3 | 510
24134 |  | Removal of arm bone lesion | 2 | 446
24136 |  | Remove radius bone lesion | 2 | 446
24138 |  | Remove elbow bone lesion | 2 | 446
24140 |  | Partial removal of arm bone | 3 | 510
24145 |  | Partial removal of radius | 3 | 510
24147 |  | Partial removal of elbow | 2 | 446
24150 | D | Extensive humerus surgery | 3 | 510
24151 | D | Extensive humerus surgery | 4 | 630
24152 | D | Extensive radius surgery | 3 | 510
24153 | D | Extensive radius surgery | 4 | 630
24155 |  | Removal of elbow joint | 3 | 510
24160 |  | Remove elbow joint implant | 2 | 446
24164 |  | Remove radius head implant | 3 | 510
24201 |  | Removal of arm foreign body | 2 | 446
24301 |  | Muscle/tendon transfer | 4 | 630
24305 | A | Arm tendon lengthening | 4 | 630
24310 |  | Revision of arm tendon | 3 | 510
24320 |  | Repair of arm tendon | 3 | 510
24330 |  | Revision of arm muscles | 3 | 510
24331 |  | Revision of arm muscles | 3 | 510
24340 |  | Repair of biceps tendon | 3 | 510
24341 | A | Repair arm tendon/muscle | 3 | 510
24342 |  | Repair of ruptured tendon | 3 | 510
24345 | A* | Repr elbw med ligmnt w/tissu | 2 | 446
24350 |  | Repair of tennis elbow | 3 | 510
24351 |  | Repair of tennis elbow | 3 | 510
24352 |  | Repair of tennis elbow | 3 | 510
24354 |  | Repair of tennis elbow | 3 | 510
24356 |  | Revision of tennis elbow | 3 | 510
24360 |  | Reconstruct elbow joint | 5 | 717
24361 |  | Reconstruct elbow joint | 5 | 717
24362 |  | Reconstruct elbow joint | 5 | 717
24363 |  | Replace elbow joint | 7 | 995
24365 |  | Reconstruct head of radius | 5 | 717
24366 |  | Reconstruct head of radius | 5 | 717
24400 |  | Revision of humerus | 4 | 630
24410 |  | Revision of humerus | 4 | 630
24420 |  | Revision of humerus | 3 | 510
24430 |  | Repair of humerus | 3 | 510
24435 |  | Repair humerus with graft | 4 | 630
24470 |  | Revision of elbow joint | 3 | 510
24495 |  | Decompression of forearm | 2 | 446
24498 |  | Reinforce humerus | 3 | 510
24500 |  | Treat humerus fracture | 1 | 333
24505 |  | Treat humerus fracture | 1 | 333
24515 |  | Treat humerus fracture | 4 | 630
24516 |  | Treat humerus fracture | 4 | 630
24530 |  | Treat humerus fracture | 1 | 333
24535 |  | Treat humerus fracture | 1 | 333
24538 |  | Treat humerus fracture | 2 | 446
24545 |  | Treat humerus fracture | 4 | 630
24546 |  | Treat humerus fracture | 5 | 717
24560 |  | Treat humerus fracture | 1 | 333
24565 |  | Treat humerus fracture | 2 | 446
24566 |  | Treat humerus fracture | 2 | 446
24575 |  | Treat humerus fracture | 3 | 510
24576 |  | Treat humerus fracture | 1 | 333
24577 |  | Treat humerus fracture | 1 | 333
24579 |  | Treat humerus fracture | 3 | 510
24582 |  | Treat humerus fracture | 2 | 446
24586 |  | Treat elbow fracture | 4 | 630
24587 |  | Treat elbow fracture | 5 | 717
24600 |  | Treat elbow dislocation | 1 | 333
24605 |  | Treat elbow dislocation | 2 | 446
24615 |  | Treat elbow dislocation | 3 | 510
24620 |  | Treat elbow fracture | 2 | 446
24635 |  | Treat elbow fracture | 3 | 510
24655 |  | Treat radius fracture | 1 | 333
24665 |  | Treat radius fracture | 4 | 630
24666 |  | Treat radius fracture | 4 | 630
24670 |  | Treat ulnar fracture | 1 | 333
24675 |  | Treat ulnar fracture | 1 | 333
24685 |  | Treat ulnar fracture | 3 | 510
24800 |  | Fusion of elbow joint | 4 | 630
24802 |  | Fusion/graft of elbow joint | 5 | 717
24925 |  | Amputation follow-up surgery | 3 | 510
25000 |  | Incision of tendon sheath | 3 | 510
25020 |  | Decompress forearm 1 space | 3 | 510
25023 |  | Decompress forearm 1 space | 3 | 510
25024 |  | Decompress forearm 2 spaces | 3 | 510
25025 |  | Decompress forearm 2 spaces | 3 | 510
25028 |  | Drainage of forearm lesion | 1 | 333
25031 |  | Drainage of forearm bursa | 2 | 446
25035 |  | Treat forearm bone lesion | 2 | 446
25040 |  | Explore/treat wrist joint | 5 | 717
25065 | D | Biopsy forearm soft tissues | 1 | 333
25066 |  | Biopsy forearm soft tissues | 2 | 446
25075 |  | Remove forearm lesion subcut | 2 | 446
25076 |  | Remove forearm lesion deep | 3 | 510
25077 |  | Remove tumor, forearm/wrist | 3 | 510
25085 |  | Incision of wrist capsule | 3 | 510
25100 |  | Biopsy of wrist joint | 2 | 446
25101 |  | Explore/treat wrist joint | 3 | 510
25105 |  | Remove wrist joint lining | 4 | 630
25107 |  | Remove wrist joint cartilage | 3 | 510
25110 |  | Remove wrist tendon lesion | 3 | 510
25111 |  | Remove wrist tendon lesion | 3 | 510
25112 |  | Reremove wrist tendon lesion | 4 | 630
25115 |  | Remove wrist/forearm lesion | 4 | 630
25116 |  | Remove wrist/forearm lesion | 4 | 630
25118 |  | Excise wrist tendon sheath | 2 | 446
25119 |  | Partial removal of ulna | 3 | 510
25120 |  | Removal of forearm lesion | 3 | 510
25125 |  | Remove/graft forearm lesion | 3 | 510
25126 |  | Remove/graft forearm lesion | 3 | 510
25130 |  | Removal of wrist lesion | 3 | 510
25135 |  | Remove & graft wrist lesion | 3 | 510
25136 |  | Remove & graft wrist lesion | 3 | 510
25145 |  | Remove forearm bone lesion | 2 | 446
25150 |  | Partial removal of ulna | 2 | 446
25151 |  | Partial removal of radius | 2 | 446
25170 | D | Extensive forearm surgery | 3 | 510
25210 |  | Removal of wrist bone | 3 | 510
25215 |  | Removal of wrist bones | 4 | 630
25230 |  | Partial removal of radius | 4 | 630
25240 |  | Partial removal of ulna | 4 | 630
25248 |  | Remove forearm foreign body | 2 | 446
25250 |  | Removal of wrist prosthesis | 1 | 333
25251 |  | Removal of wrist prosthesis | 1 | 333
25260 |  | Repair forearm tendon/muscle | 4 | 630
25263 |  | Repair forearm tendon/muscle | 2 | 446
25265 |  | Repair forearm tendon/muscle | 3 | 510
25270 |  | Repair forearm tendon/muscle | 4 | 630
25272 |  | Repair forearm tendon/muscle | 3 | 510
25274 |  | Repair forearm tendon/muscle | 4 | 630
25275 |  | Repair forearm tendon sheath | 4 | 630
25280 |  | Revise wrist/forearm tendon | 4 | 630
25290 |  | Incise wrist/forearm tendon | 3 | 510
25295 |  | Release wrist/forearm tendon | 3 | 510
25300 |  | Fusion of tendons at wrist | 3 | 510
25301 |  | Fusion of tendons at wrist | 3 | 510
25310 |  | Transplant forearm tendon | 3 | 510
25312 |  | Transplant forearm tendon | 4 | 630
25315 |  | Revise palsy hand tendon(s) | 3 | 510
25316 |  | Revise palsy hand tendon(s) | 3 | 510
25320 |  | Repair/revise wrist joint | 3 | 510
25332 |  | Revise wrist joint | 5 | 717
25335 |  | Realignment of hand | 3 | 510
25337 | A | Reconstruct ulna/radioulnar | 5 | 717
25350 |  | Revision of radius | 3 | 510
25355 |  | Revision of radius | 3 | 510
25360 |  | Revision of ulna | 3 | 510
25365 |  | Revise radius & ulna | 3 | 510
25370 |  | Revise radius or ulna | 3 | 510
25375 |  | Revise radius & ulna | 4 | 630
25390 |  | Shorten radius or ulna | 3 | 510
25391 |  | Lengthen radius or ulna | 4 | 630
25392 |  | Shorten radius & ulna | 3 | 510
25393 |  | Lengthen radius & ulna | 4 | 630
25400 |  | Repair radius or ulna | 3 | 510
25405 |  | Repair/graft radius or ulna | 4 | 630
25415 |  | Repair radius & ulna | 3 | 510
25420 |  | Repair/graft radius & ulna | 4 | 630
25425 |  | Repair/graft radius or ulna | 3 | 510
25426 |  | Repair/graft radius & ulna | 4 | 630
25440 |  | Repair/graft wrist bone | 4 | 630
25441 |  | Reconstruct wrist joint | 5 | 717
25442 |  | Reconstruct wrist joint | 5 | 717
25443 |  | Reconstruct wrist joint | 5 | 717
25444 |  | Reconstruct wrist joint | 5 | 717
25445 |  | Reconstruct wrist joint | 5 | 717
25446 |  | Wrist replacement | 7 | 995
25447 |  | Repair wrist joint(s) | 5 | 717
25449 |  | Remove wrist joint implant | 5 | 717
25450 |  | Revision of wrist joint | 3 | 510
25455 |  | Revision of wrist joint | 3 | 510
25490 |  | Reinforce radius | 3 | 510
25491 |  | Reinforce ulna | 3 | 510
25492 |  | Reinforce radius and ulna | 3 | 510
25505 |  | Treat fracture of radius | 1 | 333
25515 |  | Treat fracture of radius | 3 | 510
25520 |  | Treat fracture of radius | 1 | 333
25525 |  | Treat fracture of radius | 4 | 630
25526 |  | Treat fracture of radius | 5 | 717
25535 |  | Treat fracture of ulna | 1 | 333
25545 |  | Treat fracture of ulna | 3 | 510
25565 |  | Treat fracture radius & ulna | 2 | 446
25574 |  | Treat fracture radius & ulna | 3 | 510
25575 |  | Treat fracture radius/ulna | 3 | 510
25605 |  | Treat fracture radius/ulna | 3 | 510
25611 |  | Treat fracture radius/ulna | 3 | 510
25620 |  | Treat fracture radius/ulna | 5 | 717
25624 |  | Treat wrist bone fracture | 2 | 446
25628 |  | Treat wrist bone fracture | 3 | 510
25635 |  | Treat wrist bone fracture | 1 | 333
25645 |  | Treat wrist bone fracture | 3 | 510
25660 |  | Treat wrist dislocation | 1 | 333
25670 |  | Treat wrist dislocation | 3 | 510
25671 |  | Pin radioulnar dislocation | 1 | 333
25675 |  | Treat wrist dislocation | 1 | 333
25676 |  | Treat wrist dislocation | 2 | 446
25680 |  | Treat wrist fracture | 2 | 446
25685 |  | Treat wrist fracture | 3 | 510
25690 |  | Treat wrist dislocation | 1 | 333
25695 |  | Treat wrist dislocation | 2 | 446
25800 |  | Fusion of wrist joint | 4 | 630
25805 |  | Fusion/graft of wrist joint | 5 | 717
25810 |  | Fusion/graft of wrist joint | 5 | 717
25820 |  | Fusion of hand bones | 4 | 630
25825 |  | Fuse hand bones with graft | 5 | 717
25830 | A | Fusion, radioulnar jnt/ulna | 5 | 717
25907 |  | Amputation follow-up surgery | 3 | 510
25922 |  | Amputate hand at wrist | 3 | 510
25929 |  | Amputation follow-up surgery | 3 | 510
26011 |  | Drainage of finger abscess | 1 | 333
26020 |  | Drain hand tendon sheath | 2 | 446
26025 |  | Drainage of palm bursa | 1 | 333
26030 |  | Drainage of palm bursa(s) | 2 | 446
26034 |  | Treat hand bone lesion | 2 | 446
26035 | D | Decompress fingers/hand | 4 | 630
26037 | D | Decompress fingers/hand | 4 | 630
26040 |  | Release palm contracture | 4 | 630
26045 |  | Release palm contracture | 3 | 510
26055 |  | Incise finger tendon sheath | 2 | 446
26060 |  | Incision of finger tendon | 2 | 446
26070 |  | Explore/treat hand joint | 2 | 446
26075 |  | Explore/treat finger joint | 4 | 630
26080 |  | Explore/treat finger joint | 4 | 630
26100 |  | Biopsy hand joint lining | 2 | 446
26105 |  | Biopsy finger joint lining | 1 | 333
26110 |  | Biopsy finger joint lining | 1 | 333
26115 |  | Remove hand lesion subcut | 2 | 446
26116 |  | Remove hand lesion, deep | 2 | 446
26117 |  | Remove tumor, hand/finger | 3 | 510
26121 |  | Release palm contracture | 4 | 630
26123 |  | Release palm contracture | 4 | 630
26125 |  | Release palm contracture | 4 | 630
26130 |  | Remove wrist joint lining | 3 | 510
26135 |  | Revise finger joint, each | 4 | 630
26140 |  | Revise finger joint, each | 2 | 446
26145 |  | Tendon excision, palm/finger | 3 | 510
26160 |  | Remove tendon sheath lesion | 3 | 510
26170 |  | Removal of palm tendon, each | 3 | 510
26180 |  | Removal of finger tendon | 3 | 510
26185 | A | Remove finger bone | 4 | 630
26200 |  | Remove hand bone lesion | 2 | 446
26205 |  | Remove/graft bone lesion | 3 | 510
26210 |  | Removal of finger lesion | 2 | 446
26215 |  | Remove/graft finger lesion | 3 | 510
26230 |  | Partial removal of hand bone | 7 | 995
26235 |  | Partial removal, finger bone | 3 | 510
26236 |  | Partial removal, finger bone | 3 | 510
26250 |  | Extensive hand surgery | 3 | 510
26255 |  | Extensive hand surgery | 3 | 510
26260 |  | Extensive finger surgery | 3 | 510
26261 |  | Extensive finger surgery | 3 | 510
26262 |  | Partial removal of finger | 2 | 446
26320 |  | Removal of implant from hand | 2 | 446
26350 |  | Repair finger/hand tendon | 1 | 333
26352 |  | Repair/graft hand tendon | 4 | 630
26356 |  | Repair finger/hand tendon | 4 | 630
26357 |  | Repair finger/hand tendon | 4 | 630
26358 |  | Repair/graft hand tendon | 4 | 630
26370 |  | Repair finger/hand tendon | 4 | 630
26372 |  | Repair/graft hand tendon | 4 | 630
26373 |  | Repair finger/hand tendon | 3 | 510
26390 |  | Revise hand/finger tendon | 4 | 630
26392 |  | Repair/graft hand tendon | 3 | 510
26410 |  | Repair hand tendon | 3 | 510
26412 |  | Repair/graft hand tendon | 3 | 510
26415 |  | Excision, hand/finger tendon | 4 | 630
26416 |  | Graft hand or finger tendon | 3 | 510
26418 |  | Repair finger tendon | 4 | 630
26420 |  | Repair/graft finger tendon | 4 | 630
26426 |  | Repair finger/hand tendon | 3 | 510
26428 |  | Repair/graft finger tendon | 3 | 510
26432 |  | Repair finger tendon | 3 | 510
26433 |  | Repair finger tendon | 3 | 510
26434 |  | Repair/graft finger tendon | 3 | 510
26437 |  | Realignment of tendons | 3 | 510
26440 |  | Release palm/finger tendon | 3 | 510
26442 |  | Release palm & finger tendon | 3 | 510
26445 |  | Release hand/finger tendon | 3 | 510
26449 |  | Release forearm/hand tendon | 3 | 510
26450 |  | Incision of palm tendon | 3 | 510
26455 |  | Incision of finger tendon | 3 | 510
26460 |  | Incise hand/finger tendon | 3 | 510
26471 |  | Fusion of finger tendons | 2 | 446
26474 |  | Fusion of finger tendons | 2 | 446
26476 |  | Tendon lengthening | 1 | 333
26477 |  | Tendon shortening | 1 | 333
26478 |  | Lengthening of hand tendon | 1 | 333
26479 |  | Shortening of hand tendon | 1 | 333
26480 |  | Transplant hand tendon | 3 | 510
26483 |  | Transplant/graft hand tendon | 3 | 510
26485 |  | Transplant palm tendon | 2 | 446
26489 |  | Transplant/graft palm tendon | 3 | 510
26490 |  | Revise thumb tendon | 3 | 510
26492 |  | Tendon transfer with graft | 3 | 510
26494 |  | Hand tendon/muscle transfer | 3 | 510
26496 |  | Revise thumb tendon | 3 | 510
26497 |  | Finger tendon transfer | 3 | 510
26498 |  | Finger tendon transfer | 4 | 630
26499 |  | Revision of finger | 3 | 510
26500 |  | Hand tendon reconstruction | 4 | 630
26502 |  | Hand tendon reconstruction | 4 | 630
26504 |  | Hand tendon reconstruction | 4 | 630
26508 |  | Release thumb contracture | 3 | 510
26510 |  | Thumb tendon transfer | 3 | 510
26516 |  | Fusion of knuckle joint | 1 | 333
26517 |  | Fusion of knuckle joints | 3 | 510
26518 |  | Fusion of knuckle joints | 3 | 510
26520 |  | Release knuckle contracture | 3 | 510
26525 |  | Release finger contracture | 3 | 510
26530 |  | Revise knuckle joint | 3 | 510
26531 |  | Revise knuckle with implant | 7 | 995
26535 |  | Revise finger joint | 5 | 717
26536 |  | Revise/implant finger joint | 5 | 717
26540 |  | Repair hand joint | 4 | 630
26541 |  | Repair hand joint with graft | 7 | 995
26542 |  | Repair hand joint with graft | 4 | 630
26545 |  | Reconstruct finger joint | 4 | 630
26546 | A | Repair nonunion hand | 4 | 630
26548 |  | Reconstruct finger joint | 4 | 630
26550 |  | Construct thumb replacement | 2 | 446
26551 | D | Great toe-hand transfer | 4 | 630
26553 | D | Single transfer, toe-hand | 2 | 446
26554 | D | Double transfer, toe-hand | 2 | 446
26555 |  | Positional change of finger | 3 | 510
26560 |  | Repair of web finger | 2 | 446
26561 |  | Repair of web finger | 3 | 510
26562 |  | Repair of web finger | 4 | 630
26565 |  | Correct metacarpal flaw | 5 | 717
26567 |  | Correct finger deformity | 5 | 717
26568 |  | Lengthen metacarpal/finger | 3 | 510
26580 |  | Repair hand deformity | 5 | 717
26587 |  | Reconstruct extra finger | 5 | 717
26590 |  | Repair finger deformity | 5 | 717
26591 |  | Repair muscles of hand | 3 | 510
26593 |  | Release muscles of hand | 3 | 510
26596 |  | Excision constricting tissue | 2 | 446
26605 |  | Treat metacarpal fracture | 2 | 446
26607 |  | Treat metacarpal fracture | 2 | 446
26608 | A | Treat metacarpal fracture | 4 | 630
26615 |  | Treat metacarpal fracture | 4 | 630
26645 |  | Treat thumb fracture | 1 | 333
26650 |  | Treat thumb fracture | 2 | 446
26665 |  | Treat thumb fracture | 4 | 630
26675 |  | Treat hand dislocation | 2 | 446
26676 |  | Pin hand dislocation | 2 | 446
26685 |  | Treat hand dislocation | 3 | 510
26686 |  | Treat hand dislocation | 3 | 510
26705 |  | Treat knuckle dislocation | 2 | 446
26706 |  | Pin knuckle dislocation | 2 | 446
26715 |  | Treat knuckle dislocation | 4 | 630
26727 |  | Treat finger fracture, each | 7 | 995
26735 |  | Treat finger fracture, each | 4 | 630
26742 |  | Treat finger fracture, each | 2 | 446
26746 |  | Treat finger fracture, each | 5 | 717
26756 |  | Pin finger fracture, each | 2 | 446
26765 |  | Treat finger fracture, each | 4 | 630
26776 |  | Pin finger dislocation | 2 | 446
26785 |  | Treat finger dislocation | 2 | 446
26820 |  | Thumb fusion with graft | 5 | 717
26841 |  | Fusion of thumb | 4 | 630
26842 |  | Thumb fusion with graft | 4 | 630
26843 |  | Fusion of hand joint | 3 | 510
26844 |  | Fusion/graft of hand joint | 3 | 510
26850 |  | Fusion of knuckle | 4 | 630
26852 |  | Fusion of knuckle with graft | 4 | 630
26860 |  | Fusion of finger joint | 3 | 510
26861 |  | Fusion of finger jnt, add-on | 2 | 446
26862 |  | Fusion/graft of finger joint | 4 | 630
26863 |  | Fuse/graft added joint | 3 | 510
26910 |  | Amputate metacarpal bone | 3 | 510
26951 |  | Amputation of finger/thumb | 2 | 446
26952 |  | Amputation of finger/thumb | 4 | 630
26990 |  | Drainage of pelvis lesion | 1 | 333
26991 |  | Drainage of pelvis bursa | 1 | 333
26992 | D | Drainage of bone lesion | 2 | 446
27000 |  | Incision of hip tendon | 2 | 446
27001 |  | Incision of hip tendon | 3 | 510
27003 |  | Incision of hip tendon | 3 | 510
27030 | D | Drainage of hip joint | 3 | 510
27033 |  | Exploration of hip joint | 3 | 510
27035 |  | Denervation of hip joint | 4 | 630
27040 |  | Biopsy of soft tissues | 1 | 333
27041 |  | Biopsy of soft tissues | 2 | 446
27047 |  | Remove hip/pelvis lesion | 2 | 446
27048 |  | Remove hip/pelvis lesion | 3 | 510
27049 |  | Remove tumor, hip/pelvis | 3 | 510
27050 |  | Biopsy of sacroiliac joint | 3 | 510
27052 |  | Biopsy of hip joint | 3 | 510
27060 |  | Removal of ischial bursa | 5 | 717
27062 |  | Remove femur lesion/bursa | 5 | 717
27065 |  | Removal of hip bone lesion | 5 | 717
27066 |  | Removal of hip bone lesion | 5 | 717
27067 | A | Remove/graft hip bone lesion | 5 | 717
27080 |  | Removal of tail bone | 2 | 446
27086 |  | Remove hip foreign body | 1 | 333
27087 |  | Remove hip foreign body | 3 | 510
27097 |  | Revision of hip tendon | 3 | 510
27098 |  | Transfer tendon to pelvis | 3 | 510
27100 |  | Transfer of abdominal muscle | 4 | 630
27105 |  | Transfer of spinal muscle | 4 | 630
27110 |  | Transfer of iliopsoas muscle | 4 | 630
27111 |  | Transfer of iliopsoas muscle | 4 | 630
27193 |  | Treat pelvic ring fracture | 1 | 333
27194 |  | Treat pelvic ring fracture | 2 | 446
27202 |  | Treat tail bone fracture | 2 | 446
27230 |  | Treat thigh fracture | 1 | 333
27238 |  | Treat thigh fracture | 1 | 333
27246 |  | Treat thigh fracture | 1 | 333
27250 |  | Treat hip dislocation | 1 | 333
27252 |  | Treat hip dislocation | 2 | 446
27257 | A | Treat hip dislocation | 3 | 510
27265 |  | Treat hip dislocation | 1 | 333
27266 |  | Treat hip dislocation | 2 | 446
27275 |  | Manipulation of hip joint | 2 | 446
27301 |  | Drain thigh/knee lesion | 3 | 510
27303 | D | Drainage of bone lesion | 2 | 446
27305 |  | Incise thigh tendon & fascia | 2 | 446
27306 |  | Incision of thigh tendon | 3 | 510
27307 |  | Incision of thigh tendons | 3 | 510
27310 |  | Exploration of knee joint | 4 | 630
27315 |  | Partial removal, thigh nerve | 2 | 446
27320 |  | Partial removal, thigh nerve | 2 | 446
27323 |  | Biopsy, thigh soft tissues | 1 | 333
27324 |  | Biopsy, thigh soft tissues | 1 | 333
27327 |  | Removal of thigh lesion | 2 | 446
27328 |  | Removal of thigh lesion | 3 | 510
27329 | A | Remove tumor, thigh/knee | 4 | 630
27330 |  | Biopsy, knee joint lining | 4 | 630
27331 |  | Explore/treat knee joint | 4 | 630
27332 |  | Removal of knee cartilage | 4 | 630
27333 |  | Removal of knee cartilage | 4 | 630
27334 |  | Remove knee joint lining | 4 | 630
27335 |  | Remove knee joint lining | 4 | 630
27340 |  | Removal of kneecap bursa | 3 | 510
27345 |  | Removal of knee cyst | 4 | 630
27347 | A* | Remove knee cyst | 4 | 630
27350 |  | Removal of kneecap | 4 | 630
27355 |  | Remove femur lesion | 3 | 510
27356 |  | Remove femur lesion/graft | 4 | 630
27357 | A | Remove femur lesion/graft | 5 | 717
27358 | A | Remove femur lesion/fixation | 5 | 717
27360 |  | Partial removal, leg bone(s) | 5 | 717
27372 |  | Removal of foreign body | 7 | 995
27380 |  | Repair of kneecap tendon | 1 | 333
27381 |  | Repair/graft kneecap tendon | 3 | 510
27385 |  | Repair of thigh muscle | 3 | 510
27386 |  | Repair/graft of thigh muscle | 3 | 510
27390 |  | Incision of thigh tendon | 1 | 333
27391 |  | Incision of thigh tendons | 2 | 446
27392 |  | Incision of thigh tendons | 3 | 510
27393 |  | Lengthening of thigh tendon | 2 | 446
27394 |  | Lengthening of thigh tendons | 3 | 510
27395 |  | Lengthening of thigh tendons | 3 | 510
27396 |  | Transplant of thigh tendon | 3 | 510
27397 |  | Transplants of thigh tendons | 3 | 510
27400 |  | Revise thigh muscles/tendons | 3 | 510
27403 |  | Repair of knee cartilage | 4 | 630
27405 |  | Repair of knee ligament | 4 | 630
27407 |  | Repair of knee ligament | 4 | 630
27409 |  | Repair of knee ligaments | 4 | 630
27418 |  | Repair degenerated kneecap | 3 | 510
27420 |  | Revision of unstable kneecap | 3 | 510
27422 |  | Revision of unstable kneecap | 7 | 995
27424 |  | Revision/removal of kneecap | 3 | 510
27425 |  | Lateral retinacular release | 7 | 995
27427 |  | Reconstruction, knee | 3 | 510
27428 |  | Reconstruction, knee | 4 | 630
27429 |  | Reconstruction, knee | 4 | 630
27430 |  | Revision of thigh muscles | 4 | 630
27435 |  | Incision of knee joint | 4 | 630
27437 |  | Revise kneecap | 4 | 630
27438 |  | Revise kneecap with implant | 5 | 717
27440 | D | Revision of knee joint | 5 | 717
27441 |  | Revision of knee joint | 5 | 717
27442 |  | Revision of knee joint | 5 | 717
27443 |  | Revision of knee joint | 5 | 717
27496 | A | Decompression of thigh/knee | 5 | 717
27497 | A | Decompression of thigh/knee | 3 | 510
27498 | A | Decompression of thigh/knee | 3 | 510
27499 | A | Decompression of thigh/knee | 3 | 510
27500 |  | Treatment of thigh fracture | 1 | 333
27501 |  | Treatment of thigh fracture | 2 | 446
27502 |  | Treatment of thigh fracture | 2 | 446
27503 |  | Treatment of thigh fracture | 3 | 510
27507 | D | Treatment of thigh fracture | 4 | 630
27508 |  | Treatment of thigh fracture | 1 | 333
27509 |  | Treatment of thigh fracture | 3 | 510
27510 |  | Treatment of thigh fracture | 1 | 333
27511 | D | Treatment of thigh fracture | 4 | 630
27513 | D | Treatment of thigh fracture | 5 | 717
27516 |  | Treat thigh fx growth plate | 1 | 333
27517 |  | Treat thigh fx growth plate | 1 | 333
27520 |  | Treat kneecap fracture | 1 | 333
27524 | D | Treat kneecap fracture | 3 | 510
27530 |  | Treat knee fracture | 1 | 333
27532 |  | Treat knee fracture | 1 | 333
27535 | D | Treat knee fracture | 3 | 510
27538 |  | Treat knee fracture(s) | 1 | 333
27550 |  | Treat knee dislocation | 1 | 333
27552 |  | Treat knee dislocation | 1 | 333
27560 |  | Treat kneecap dislocation | 1 | 333
27562 |  | Treat kneecap dislocation | 1 | 333
27566 |  | Treat kneecap dislocation | 2 | 446
27570 |  | Fixation of knee joint | 1 | 333
27594 | A | Amputation follow-up surgery | 3 | 510
27600 | A | Decompression of lower leg | 3 | 510
27601 | A | Decompression of lower leg | 3 | 510
27602 | A | Decompression of lower leg | 3 | 510
27603 |  | Drain lower leg lesion | 2 | 446
27604 |  | Drain lower leg bursa | 2 | 446
27605 |  | Incision of achilles tendon | 1 | 333
27606 |  | Incision of achilles tendon | 1 | 333
27607 |  | Treat lower leg bone lesion | 2 | 446
27610 |  | Explore/treat ankle joint | 2 | 446
27612 |  | Exploration of ankle joint | 3 | 510
27613 | D | Biopsy lower leg soft tissue | 1 | 333
27614 |  | Biopsy lower leg soft tissue | 2 | 446
27615 |  | Remove tumor, lower leg | 3 | 510
27618 |  | Remove lower leg lesion | 2 | 446
27619 |  | Remove lower leg lesion | 3 | 510
27620 |  | Explore/treat ankle joint | 4 | 630
27625 |  | Remove ankle joint lining | 4 | 630
27626 |  | Remove ankle joint lining | 4 | 630
27630 |  | Removal of tendon lesion | 3 | 510
27635 |  | Remove lower leg bone lesion | 3 | 510
27637 |  | Remove/graft leg bone lesion | 3 | 510
27638 |  | Remove/graft leg bone lesion | 3 | 510
27640 |  | Partial removal of tibia | 2 | 446
27641 |  | Partial removal of fibula | 2 | 446
27647 | A | Extensive ankle/heel surgery | 3 | 510
27650 |  | Repair achilles tendon | 3 | 510
27652 |  | Repair/graft achilles tendon | 3 | 510
27654 |  | Repair of achilles tendon | 3 | 510
27656 |  | Repair leg fascia defect | 2 | 446
27658 |  | Repair of leg tendon, each | 1 | 333
27659 |  | Repair of leg tendon, each | 2 | 446
27664 |  | Repair of leg tendon, each | 2 | 446
27665 |  | Repair of leg tendon, each | 2 | 446
27675 |  | Repair lower leg tendons | 2 | 446
27676 |  | Repair lower leg tendons | 3 | 510
27680 |  | Release of lower leg tendon | 3 | 510
27681 |  | Release of lower leg tendons | 2 | 446
27685 |  | Revision of lower leg tendon | 3 | 510
27686 |  | Revise lower leg tendons | 3 | 510
27687 |  | Revision of calf tendon | 3 | 510
27690 |  | Revise lower leg tendon | 4 | 630
27691 |  | Revise lower leg tendon | 4 | 630
27692 |  | Revise additional leg tendon | 3 | 510
27695 |  | Repair of ankle ligament | 2 | 446
27696 |  | Repair of ankle ligaments | 2 | 446
27698 |  | Repair of ankle ligament | 2 | 446
27700 |  | Revision of ankle joint | 5 | 717
27704 |  | Removal of ankle implant | 2 | 446
27705 |  | Incision of tibia | 2 | 446
27707 |  | Incision of fibula | 2 | 446
27709 |  | Incision of tibia & fibula | 2 | 446
27715 | D | Revision of lower leg | 4 | 630
27730 |  | Repair of tibia epiphysis | 2 | 446
27732 |  | Repair of fibula epiphysis | 2 | 446
27734 |  | Repair lower leg epiphyses | 2 | 446
27740 |  | Repair of leg epiphyses | 2 | 446
27742 |  | Repair of leg epiphyses | 2 | 446
27745 |  | Reinforce tibia | 3 | 510
27750 |  | Treatment of tibia fracture | 1 | 333
27752 |  | Treatment of tibia fracture | 1 | 333
27756 |  | Treatment of tibia fracture | 3 | 510
27758 |  | Treatment of tibia fracture | 4 | 630
27759 |  | Treatment of tibia fracture | 4 | 630
27760 |  | Treatment of ankle fracture | 1 | 333
27762 |  | Treatment of ankle fracture | 1 | 333
27766 |  | Treatment of ankle fracture | 3 | 510
27780 |  | Treatment of fibula fracture | 1 | 333
27781 |  | Treatment of fibula fracture | 1 | 333
27784 |  | Treatment of fibula fracture | 3 | 510
27786 |  | Treatment of ankle fracture | 1 | 333
27788 |  | Treatment of ankle fracture | 1 | 333
27792 |  | Treatment of ankle fracture | 3 | 510
27808 |  | Treatment of ankle fracture | 1 | 333
27810 |  | Treatment of ankle fracture | 1 | 333
27814 |  | Treatment of ankle fracture | 3 | 510
27816 |  | Treatment of ankle fracture | 1 | 333
27818 |  | Treatment of ankle fracture | 1 | 333
27822 |  | Treatment of ankle fracture | 3 | 510
27823 |  | Treatment of ankle fracture | 3 | 510
27824 |  | Treat lower leg fracture | 1 | 333
27825 |  | Treat lower leg fracture | 2 | 446
27826 |  | Treat lower leg fracture | 3 | 510
27827 |  | Treat lower leg fracture | 3 | 510
27828 |  | Treat lower leg fracture | 4 | 630
27829 |  | Treat lower leg joint | 2 | 446
27830 |  | Treat lower leg dislocation | 1 | 333
27831 |  | Treat lower leg dislocation | 1 | 333
27832 |  | Treat lower leg dislocation | 2 | 446
27840 |  | Treat ankle dislocation | 1 | 333
27842 |  | Treat ankle dislocation | 1 | 333
27846 |  | Treat ankle dislocation | 3 | 510
27848 |  | Treat ankle dislocation | 3 | 510
27860 |  | Fixation of ankle joint | 1 | 333
27870 |  | Fusion of ankle joint | 4 | 630
27871 |  | Fusion of tibiofibular joint | 4 | 630
27884 |  | Amputation follow-up surgery | 3 | 510
27889 | A | Amputation of foot at ankle | 3 | 510
27892 | A | Decompression of leg | 3 | 510
27893 | A | Decompression of leg | 3 | 510
27894 | A | Decompression of leg | 3 | 510
28002 |  | Treatment of foot infection | 3 | 510
28003 |  | Treatment of foot infection | 3 | 510
28005 |  | Treat foot bone lesion | 3 | 510
28008 |  | Incision of foot fascia | 3 | 510
28011 | A | Incision of toe tendons | 3 | 510
28020 |  | Exploration of foot joint | 2 | 446
28022 | A | Exploration of foot joint | 2 | 446
28024 | A | Exploration of toe joint | 2 | 446
28030 |  | Removal of foot nerve | 4 | 630
28035 |  | Decompression of tibia nerve | 4 | 630
28043 |  | Excision of foot lesion | 2 | 446
28045 |  | Excision of foot lesion | 3 | 510
28046 |  | Resection of tumor, foot | 3 | 510
28050 |  | Biopsy of foot joint lining | 2 | 446
28052 | A | Biopsy of foot joint lining | 2 | 446
28054 |  | Biopsy of toe joint lining | 2 | 446
28060 |  | Partial removal, foot fascia | 2 | 446
28062 |  | Removal of foot fascia | 3 | 510
28070 |  | Removal of foot joint lining | 3 | 510
28072 |  | Removal of foot joint lining | 3 | 510
28080 |  | Removal of foot lesion | 3 | 510
28086 |  | Excise foot tendon sheath | 2 | 446
28088 |  | Excise foot tendon sheath | 2 | 446
28090 |  | Removal of foot lesion | 3 | 510
28092 |  | Removal of toe lesions | 3 | 510
28100 |  | Removal of ankle/heel lesion | 2 | 446
28102 |  | Remove/graft foot lesion | 3 | 510
28103 |  | Remove/graft foot lesion | 3 | 510
28104 |  | Removal of foot lesion | 2 | 446
28106 |  | Remove/graft foot lesion | 3 | 510
28107 |  | Remove/graft foot lesion | 3 | 510
28110 |  | Part removal of metatarsal | 3 | 510
28111 |  | Part removal of metatarsal | 3 | 510
28112 |  | Part removal of metatarsal | 3 | 510
28113 |  | Part removal of metatarsal | 3 | 510
28114 |  | Removal of metatarsal heads | 3 | 510
28116 |  | Revision of foot | 3 | 510
28118 |  | Removal of heel bone | 4 | 630
28119 |  | Removal of heel spur | 4 | 630
28120 |  | Part removal of ankle/heel | 7 | 995
28122 |  | Partial removal of foot bone | 3 | 510
28126 | A | Partial removal of toe | 3 | 510
28130 |  | Removal of ankle bone | 3 | 510
28140 |  | Removal of metatarsal | 3 | 510
28150 |  | Removal of toe | 3 | 510
28153 | A | Partial removal of toe | 3 | 510
28160 | A | Partial removal of toe | 3 | 510
28171 |  | Extensive foot surgery | 3 | 510
28173 |  | Extensive foot surgery | 3 | 510
28175 |  | Extensive foot surgery | 3 | 510
28192 |  | Removal of foot foreign body | 2 | 446
28193 |  | Removal of foot foreign body | 4 | 630
28200 |  | Repair of foot tendon | 3 | 510
28202 |  | Repair/graft of foot tendon | 3 | 510
28208 |  | Repair of foot tendon | 3 | 510
28210 |  | Repair/graft of foot tendon | 3 | 510
28222 |  | Release of foot tendons | 1 | 333
28225 |  | Release of foot tendon | 1 | 333
28226 |  | Release of foot tendons | 1 | 333
28234 | A | Incision of foot tendon | 2 | 446
28238 |  | Revision of foot tendon | 3 | 510
28240 |  | Release of big toe | 2 | 446
28250 |  | Revision of foot fascia | 3 | 510
28260 |  | Release of midfoot joint | 3 | 510
28261 |  | Revision of foot tendon | 3 | 510
28262 |  | Revision of foot and ankle | 4 | 630
28264 |  | Release of midfoot joint | 1 | 333
28270 | A | Release of foot contracture | 3 | 510
28280 |  | Fusion of toes | 2 | 446
28285 |  | Repair of hammertoe | 3 | 510
28286 |  | Repair of hammertoe | 4 | 630
28288 |  | Partial removal of foot bone | 3 | 510
28289 | A* | Repair hallux rigidus | 3 | 510
28290 |  | Correction of bunion | 2 | 446
28292 |  | Correction of bunion | 2 | 446
28293 |  | Correction of bunion | 3 | 510
28294 |  | Correction of bunion | 3 | 510
28296 |  | Correction of bunion | 3 | 510
28297 |  | Correction of bunion | 3 | 510
28298 |  | Correction of bunion | 3 | 510
28299 |  | Correction of bunion | 5 | 717
28300 |  | Incision of heel bone | 2 | 446
28302 |  | Incision of ankle bone | 2 | 446
28304 |  | Incision of midfoot bones | 2 | 446
28305 |  | Incise/graft midfoot bones | 3 | 510
28306 |  | Incision of metatarsal | 4 | 630
28307 |  | Incision of metatarsal | 4 | 630
28308 |  | Incision of metatarsal | 2 | 446
28309 |  | Incision of metatarsals | 4 | 630
28310 |  | Revision of big toe | 3 | 510
28312 |  | Revision of toe | 3 | 510
28313 |  | Repair deformity of toe | 2 | 446
28315 |  | Removal of sesamoid bone | 4 | 630
28320 |  | Repair of foot bones | 4 | 630
28322 |  | Repair of metatarsals | 4 | 630
28340 |  | Resect enlarged toe tissue | 4 | 630
28341 |  | Resect enlarged toe | 4 | 630
28344 |  | Repair extra toe(s) | 4 | 630
28345 |  | Repair webbed toe(s) | 4 | 630
28400 |  | Treatment of heel fracture | 1 | 333
28405 |  | Treatment of heel fracture | 2 | 446
28406 |  | Treatment of heel fracture | 2 | 446
28415 |  | Treat heel fracture | 3 | 510
28420 |  | Treat/graft heel fracture | 4 | 630
28435 |  | Treatment of ankle fracture | 2 | 446
28436 |  | Treatment of ankle fracture | 2 | 446
28445 |  | Treat ankle fracture | 3 | 510
28456 |  | Treat midfoot fracture | 2 | 446
28465 |  | Treat midfoot fracture, each | 3 | 510
28476 |  | Treat metatarsal fracture | 2 | 446
28485 |  | Treat metatarsal fracture | 4 | 630
28496 |  | Treat big toe fracture | 2 | 446
28505 |  | Treat big toe fracture | 3 | 510
28525 |  | Treat toe fracture | 3 | 510
28531 | A | Treat sesamoid bone fracture | 3 | 510
28545 |  | Treat foot dislocation | 1 | 333
28546 |  | Treat foot dislocation | 2 | 446
28555 |  | Repair foot dislocation | 2 | 446
28575 |  | Treat foot dislocation | 1 | 333
28576 |  | Treat foot dislocation | 3 | 510
28585 |  | Repair foot dislocation | 3 | 510
28605 |  | Treat foot dislocation | 1 | 333
28606 |  | Treat foot dislocation | 2 | 446
28615 |  | Repair foot dislocation | 3 | 510
28635 |  | Treat toe dislocation | 1 | 333
28636 |  | Treat toe dislocation | 3 | 510
28645 |  | Repair toe dislocation | 3 | 510
28665 |  | Treat toe dislocation | 1 | 333
28666 |  | Treat toe dislocation | 3 | 510
28675 |  | Repair of toe dislocation | 3 | 510
28705 |  | Fusion of foot bones | 4 | 630
28715 |  | Fusion of foot bones | 4 | 630
28725 |  | Fusion of foot bones | 4 | 630
28730 |  | Fusion of foot bones | 4 | 630
28735 |  | Fusion of foot bones | 4 | 630
28737 |  | Revision of foot bones | 5 | 717
28740 |  | Fusion of foot bones | 4 | 630
28750 |  | Fusion of big toe joint | 4 | 630
28755 |  | Fusion of big toe joint | 4 | 630
28760 |  | Fusion of big toe joint | 4 | 630
28810 |  | Amputation toe & metatarsal | 2 | 446
28820 |  | Amputation of toe | 2 | 446
28825 |  | Partial amputation of toe | 2 | 446
29800 | A | Jaw arthroscopy/surgery | 3 | 510
29804 |  | Jaw arthroscopy/surgery | 3 | 510
29805 |  | Shoulder arthroscopy, dx | 3 | 510
29806 |  | Shoulder arthroscopy/surgery | 3 | 510
29807 |  | Shoulder arthroscopy/surgery | 3 | 510
29819 |  | Shoulder arthroscopy/surgery | 3 | 510
29820 |  | Shoulder arthroscopy/surgery | 3 | 510
29821 |  | Shoulder arthroscopy/surgery | 3 | 510
29822 |  | Shoulder arthroscopy/surgery | 3 | 510
29823 |  | Shoulder arthroscopy/surgery | 3 | 510
29824 |  | Shoulder arthroscopy/surgery | 5 | 717
29825 |  | Shoulder arthroscopy/surgery | 3 | 510
29826 |  | Shoulder arthroscopy/surgery | 3 | 510
29827 | A* | Arthroscop rotator cuff repr | 5 | 717
29830 |  | Elbow arthroscopy | 3 | 510
29834 |  | Elbow arthroscopy/surgery | 3 | 510
29835 |  | Elbow arthroscopy/surgery | 3 | 510
29836 |  | Elbow arthroscopy/surgery | 3 | 510
29837 |  | Elbow arthroscopy/surgery | 3 | 510
29838 |  | Elbow arthroscopy/surgery | 3 | 510
29840 |  | Wrist arthroscopy | 3 | 510
29843 |  | Wrist arthroscopy/surgery | 3 | 510
29844 |  | Wrist arthroscopy/surgery | 3 | 510
29845 |  | Wrist arthroscopy/surgery | 3 | 510
29846 |  | Wrist arthroscopy/surgery | 3 | 510
29847 |  | Wrist arthroscopy/surgery | 3 | 510
29848 | A | Wrist endoscopy/surgery | 9 | 1339
29850 |  | Knee arthroscopy/surgery | 4 | 630
29851 |  | Knee arthroscopy/surgery | 4 | 630
29855 |  | Tibial arthroscopy/surgery | 4 | 630
29856 |  | Tibial arthroscopy/surgery | 4 | 630
29860 | A | Hip arthroscopy, dx | 4 | 630
29861 | A | Hip arthroscopy/surgery | 4 | 630
29862 | A | Hip arthroscopy/surgery | 9 | 1339
29863 | A | Hip arthroscopy/surgery | 4 | 630
29870 |  | Knee arthroscopy, dx | 3 | 510
29871 |  | Knee arthroscopy/drainage | 3 | 510
29874 |  | Knee arthroscopy/surgery | 3 | 510
29875 |  | Knee arthroscopy/surgery | 4 | 630
29876 |  | Knee arthroscopy/surgery | 4 | 630
29877 |  | Knee arthroscopy/surgery | 4 | 630
29879 |  | Knee arthroscopy/surgery | 3 | 510
29880 |  | Knee arthroscopy/surgery | 4 | 630
29881 |  | Knee arthroscopy/surgery | 4 | 630
29882 |  | Knee arthroscopy/surgery | 3 | 510
29883 |  | Knee arthroscopy/surgery | 3 | 510
29884 |  | Knee arthroscopy/surgery | 3 | 510
29885 |  | Knee arthroscopy/surgery | 3 | 510
29886 |  | Knee arthroscopy/surgery | 3 | 510
29887 |  | Knee arthroscopy/surgery | 3 | 510
29888 |  | Knee arthroscopy/surgery | 3 | 510
29889 |  | Knee arthroscopy/surgery | 3 | 510
29891 | A | Ankle arthroscopy/surgery | 3 | 510
29892 | A | Ankle arthroscopy/surgery | 3 | 510
29893 | A | Scope, plantar fasciotomy | 9 | 1339
29894 |  | Ankle arthroscopy/surgery | 3 | 510
29895 |  | Ankle arthroscopy/surgery | 3 | 510
29897 |  | Ankle arthroscopy/surgery | 3 | 510
29898 |  | Ankle arthroscopy/surgery | 3 | 510
29899 | A* | Ankle arthroscopy/surgery | 3 | 510
29900 |  | Mcp joint arthroscopy, dx | 3 | 510
29901 |  | Mcp joint arthroscopy, surg | 3 | 510
29902 |  | Mcp joint arthroscopy, surg | 3 | 510
30115 |  | Removal of nose polyp(s) | 2 | 446
30117 |  | Removal of intranasal lesion | 3 | 510
30118 |  | Removal of intranasal lesion | 3 | 510
30120 |  | Revision of nose | 1 | 333
30124 | D | Removal of nose lesion | 1 | 333
30125 |  | Removal of nose lesion | 2 | 446
30130 |  | Removal of turbinate bones | 3 | 510
30140 |  | Removal of turbinate bones | 2 | 446
30150 |  | Partial removal of nose | 3 | 510
30160 |  | Removal of nose | 4 | 630
30310 |  | Remove nasal foreign body | 1 | 333
30320 |  | Remove nasal foreign body | 2 | 446
30400 |  | Reconstruction of nose | 4 | 630
30410 |  | Reconstruction of nose | 5 | 717
30420 |  | Reconstruction of nose | 5 | 717
30430 |  | Revision of nose | 3 | 510
30435 |  | Revision of nose | 5 | 717
30450 |  | Revision of nose | 7 | 995
30460 | A | Revision of nose | 7 | 995
30462 | A | Revision of nose | 9 | 1339
30465 | A* | Repair nasal stenosis | 9 | 1339
30520 |  | Repair of nasal septum | 4 | 630
30540 |  | Repair nasal defect | 5 | 717
30545 | A | Repair nasal defect | 5 | 717
30560 |  | Release of nasal adhesions | 2 | 446
30580 |  | Repair upper jaw fistula | 4 | 630
30600 |  | Repair mouth/nose fistula | 4 | 630
30620 |  | Intranasal reconstruction | 7 | 995
30630 |  | Repair nasal septum defect | 7 | 995
30801 |  | Cauterization, inner nose | 1 | 333
30802 |  | Cauterization, inner nose | 1 | 333
30903 |  | Control of nosebleed | 1 | 333
30905 |  | Control of nosebleed | 1 | 333
30906 |  | Repeat control of nosebleed | 1 | 333
30915 |  | Ligation, nasal sinus artery | 2 | 446
30920 |  | Ligation, upper jaw artery | 3 | 510
30930 | A | Therapy, fracture of nose | 4 | 630
31020 |  | Exploration, maxillary sinus | 2 | 446
31030 |  | Exploration, maxillary sinus | 3 | 510
31032 |  | Explore sinus,remove polyps | 4 | 630
31050 |  | Exploration, sphenoid sinus | 2 | 446
31051 |  | Sphenoid sinus surgery | 4 | 630
31070 |  | Exploration of frontal sinus | 2 | 446
31075 |  | Exploration of frontal sinus | 4 | 630
31080 |  | Removal of frontal sinus | 4 | 630
31081 | A | Removal of frontal sinus | 4 | 630
31084 |  | Removal of frontal sinus | 4 | 630
31085 | A | Removal of frontal sinus | 4 | 630
31086 |  | Removal of frontal sinus | 4 | 630
31087 | A | Removal of frontal sinus | 4 | 630
31090 |  | Exploration of sinuses | 5 | 717
31200 |  | Removal of ethmoid sinus | 2 | 446
31201 |  | Removal of ethmoid sinus | 5 | 717
31205 |  | Removal of ethmoid sinus | 3 | 510
31233 |  | Nasal/sinus endoscopy, dx | 2 | 446
31235 |  | Nasal/sinus endoscopy, dx | 1 | 333
31237 |  | Nasal/sinus endoscopy, surg | 2 | 446
31238 |  | Nasal/sinus endoscopy, surg | 1 | 333
31239 |  | Nasal/sinus endoscopy, surg | 4 | 630
31240 |  | Nasal/sinus endoscopy, surg | 2 | 446
31254 |  | Revision of ethmoid sinus | 3 | 510
31255 |  | Removal of ethmoid sinus | 5 | 717
31256 |  | Exploration maxillary sinus | 3 | 510
31267 |  | Endoscopy, maxillary sinus | 3 | 510
31276 |  | Sinus endoscopy, surgical | 3 | 510
31287 |  | Nasal/sinus endoscopy, surg | 3 | 510
31288 |  | Nasal/sinus endoscopy, surg | 3 | 510
31300 |  | Removal of larynx lesion | 5 | 717
31320 |  | Diagnostic incision, larynx | 2 | 446
31400 | A | Revision of larynx | 2 | 446
31420 | A | Removal of epiglottis | 2 | 446
31510 |  | Laryngoscopy with biopsy | 2 | 446
31511 |  | Remove foreign body, larynx | 2 | 446
31512 |  | Removal of larynx lesion | 2 | 446
31513 |  | Injection into vocal cord | 2 | 446
31515 |  | Laryngoscopy for aspiration | 1 | 333
31525 |  | Diagnostic laryngoscopy | 1 | 333
31526 |  | Diagnostic laryngoscopy | 2 | 446
31527 |  | Laryngoscopy for treatment | 1 | 333
31528 |  | Laryngoscopy and dilation | 2 | 446
31529 |  | Laryngoscopy and dilation | 2 | 446
31530 |  | Operative laryngoscopy | 2 | 446
31531 |  | Operative laryngoscopy | 3 | 510
31535 |  | Operative laryngoscopy | 2 | 446
31536 |  | Operative laryngoscopy | 3 | 510
31540 |  | Operative laryngoscopy | 3 | 510
31541 |  | Operative laryngoscopy | 4 | 630
31560 |  | Operative laryngoscopy | 5 | 717
31561 |  | Operative laryngoscopy | 5 | 717
31570 |  | Laryngoscopy with injection | 2 | 446
31571 |  | Laryngoscopy with injection | 2 | 446
31576 |  | Laryngoscopy with biopsy | 2 | 446
31577 |  | Remove foreign body, larynx | 2 | 446
31578 |  | Removal of larynx lesion | 2 | 446
31580 |  | Revision of larynx | 5 | 717
31582 |  | Revision of larynx | 5 | 717
31584 | D | Treat larynx fracture | 4 | 630
31585 |  | Treat larynx fracture | 1 | 333
31586 |  | Treat larynx fracture | 2 | 446
31588 |  | Revision of larynx | 5 | 717
31590 |  | Reinnervate larynx | 5 | 717
31595 |  | Larynx nerve surgery | 2 | 446
31600 | D | Incision of windpipe | 2 | 446
31611 |  | Surgery/speech prosthesis | 3 | 510
31612 |  | Puncture/clear windpipe | 1 | 333
31613 |  | Repair windpipe opening | 2 | 446
31614 |  | Repair windpipe opening | 2 | 446
31615 |  | Visualization of windpipe | 1 | 333
31622 |  | Dx bronchoscope/wash | 1 | 333
31623 | A* | Dx bronchoscope/brush | 2 | 446
31624 | A* | Dx bronchoscope/lavage | 2 | 446
31625 |  | Bronchoscopy with biopsy | 2 | 446
31628 |  | Bronchoscopy with biopsy | 2 | 446
31629 |  | Bronchoscopy with biopsy | 2 | 446
31630 |  | Bronchoscopy with repair | 2 | 446
31631 |  | Bronchoscopy with dilation | 2 | 446
31635 |  | Remove foreign body, airway | 2 | 446
31640 |  | Bronchoscopy & remove lesion | 2 | 446
31641 |  | Bronchoscopy, treat blockage | 2 | 446
31643 | A* | Diag bronchoscope/catheter | 2 | 446
31645 |  | Bronchoscopy, clear airways | 1 | 333
31646 |  | Bronchoscopy, reclear airway | 1 | 333
31656 |  | Bronchoscopy, inj for xray | 1 | 333
31700 |  | Insertion of airway catheter | 1 | 333
31710 | D | Insertion of airway catheter | 1 | 333
31715 | D | Injection for bronchus x-ray | 1 | 333
31717 |  | Bronchial brush biopsy | 1 | 333
31720 |  | Clearance of airways | 1 | 333
31730 |  | Intro, windpipe wire/tube | 1 | 333
31750 |  | Repair of windpipe | 5 | 717
31755 |  | Repair of windpipe | 2 | 446
31785 | D | Remove windpipe lesion | 4 | 630
31800 | D | Repair of windpipe injury | 2 | 446
31820 |  | Closure of windpipe lesion | 1 | 333
31825 |  | Repair of windpipe defect | 2 | 446
31830 |  | Revise windpipe scar | 2 | 446
32000 |  | Drainage of chest | 1 | 333
32002 | D | Treatment of collapsed lung | 2 | 446
32005 | D | Treat lung lining chemically | 2 | 446
32020 | D | Insertion of chest tube | 2 | 446
32400 |  | Needle biopsy chest lining | 1 | 333
32405 |  | Biopsy, lung or mediastinum | 1 | 333
32420 |  | Puncture/clear lung | 1 | 333
33010 |  | Drainage of heart sac | 2 | 446
33011 |  | Repeat drainage of heart sac | 2 | 446
33222 | A | Revise pocket, pacemaker | 2 | 446
33223 | A | Revise pocket, pacing-defib | 2 | 446
34101 | D | Removal of artery clot | 3 | 510
35188 | A | Repair blood vessel lesion | 4 | 630
35207 | A | Repair blood vessel lesion | 4 | 630
35875 | A | Removal of clot in graft | 9 | 1339
35876 | A | Removal of clot in graft | 9 | 1339
36260 | A | Insertion of infusion pump | 3 | 510
36261 |  | Revision of infusion pump | 2 | 446
36262 |  | Removal of infusion pump | 1 | 333
36488 | A | Insertion of catheter, vein | 1 | 333
36489 |  | Insertion of catheter, vein | 1 | 333
36490 | A | Insertion of catheter, vein | 1 | 333
36491 |  | Insertion of catheter, vein | 1 | 333
36530 |  | Insertion of infusion pump | 3 | 510
36531 |  | Revision of infusion pump | 2 | 446
36532 |  | Removal of infusion pump | 1 | 333
36533 |  | Insertion of access device | 3 | 510
36534 |  | Revision of access device | 2 | 446
36535 |  | Removal of access device | 1 | 333
36640 |  | Insertion catheter, artery | 1 | 333
36800 |  | Insertion of cannula | 3 | 510
36810 |  | Insertion of cannula | 3 | 510
36815 |  | Insertion of cannula | 3 | 510
36819 |  | Av fusion/uppr arm vein | 9 | 1339
36820 |  | Av fusion/forearm vein | 3 | 510
36821 |  | Av fusion direct any site | 3 | 510
36825 |  | Artery-vein graft | 4 | 630
36830 |  | Artery-vein graft | 4 | 630
36831 | A* | Open thrombect av fistula | 9 | 1339
36832 |  | Av fistula revision, open | 4 | 630
36833 |  | Av fistula revision | 4 | 630
36835 |  | Artery to vein shunt | 4 | 630
36860 |  | External cannula declotting | 2 | 446
36861 |  | Cannula declotting | 3 | 510
36870 | A* | Percut thrombect av fistula | 9 | 1339
37607 | A | Ligation of a-v fistula | 3 | 510
37609 |  | Temporal artery procedure | 2 | 446
37650 | A | Revision of major vein | 2 | 446
37700 |  | Revise leg vein | 2 | 446
37720 |  | Removal of leg vein | 3 | 510
37730 |  | Removal of leg veins | 3 | 510
37735 |  | Removal of leg veins/lesion | 3 | 510
37760 |  | Revision of leg veins | 3 | 510
37780 |  | Revision of leg vein | 3 | 510
37785 |  | Revise secondary varicosity | 3 | 510
37790 | A | Penile venous occlusion | 3 | 510
38300 |  | Drainage, lymph node lesion | 1 | 333
38305 |  | Drainage, lymph node lesion | 2 | 446
38308 |  | Incision of lymph channels | 2 | 446
38500 |  | Biopsy/removal, lymph nodes | 2 | 446
38505 |  | Needle biopsy, lymph nodes | 1 | 333
38510 |  | Biopsy/removal, lymph nodes | 2 | 446
38520 |  | Biopsy/removal, lymph nodes | 2 | 446
38525 |  | Biopsy/removal, lymph nodes | 2 | 446
38530 |  | Biopsy/removal, lymph nodes | 2 | 446
38542 |  | Explore deep node(s), neck | 2 | 446
38550 |  | Removal, neck/armpit lesion | 3 | 510
38555 |  | Removal, neck/armpit lesion | 4 | 630
38570 | A* | Laparoscopy, lymph node biop | 9 | 1339
38571 | A* | Laparoscopy, lymphadenectomy | 9 | 1339
38572 | A* | Laparoscopy, lymphadenectomy | 9 | 1339
38700 | D | Removal of lymph nodes, neck | 2 | 446
38740 |  | Remove armpit lymph nodes | 2 | 446
38745 |  | Remove armpit lymph nodes | 4 | 630
38760 |  | Remove groin lymph nodes | 2 | 446
38790 | D | Inject for lymphatic x-ray | 1 | 333
40500 |  | Partial excision of lip | 2 | 446
40510 |  | Partial excision of lip | 2 | 446
40520 |  | Partial excision of lip | 2 | 446
40525 |  | Reconstruct lip with flap | 2 | 446
40527 |  | Reconstruct lip with flap | 2 | 446
40530 |  | Partial removal of lip | 2 | 446
40650 |  | Repair lip | 3 | 510
40652 |  | Repair lip | 3 | 510
40654 |  | Repair lip | 3 | 510
40700 | A | Repair cleft lip/nasal | 7 | 995
40701 | A | Repair cleft lip/nasal | 7 | 995
40720 | A | Repair cleft lip/nasal | 7 | 995
40761 | A | Repair cleft lip/nasal | 3 | 510
40801 |  | Drainage of mouth lesion | 2 | 446
40805 | D | Removal, foreign body, mouth | 2 | 446
40806 | D | Incision of lip fold | 1 | 333
40814 |  | Excise/repair mouth lesion | 2 | 446
40816 |  | Excision of mouth lesion | 2 | 446
40818 |  | Excise oral mucosa for graft | 1 | 333
40819 |  | Excise lip or cheek fold | 1 | 333
40820 | D | Treatment of mouth lesion | 1 | 333
40831 |  | Repair mouth laceration | 1 | 333
40840 |  | Reconstruction of mouth | 2 | 446
40842 |  | Reconstruction of mouth | 3 | 510
40843 |  | Reconstruction of mouth | 3 | 510
40844 |  | Reconstruction of mouth | 5 | 717
40845 |  | Reconstruction of mouth | 5 | 717
41000 | D | Drainage of mouth lesion | 1 | 333
41005 |  | Drainage of mouth lesion | 1 | 333
41006 |  | Drainage of mouth lesion | 1 | 333
41007 |  | Drainage of mouth lesion | 1 | 333
41008 |  | Drainage of mouth lesion | 1 | 333
41009 |  | Drainage of mouth lesion | 1 | 333
41010 |  | Incision of tongue fold | 1 | 333
41015 |  | Drainage of mouth lesion | 1 | 333
41016 |  | Drainage of mouth lesion | 1 | 333
41017 |  | Drainage of mouth lesion | 1 | 333
41018 |  | Drainage of mouth lesion | 1 | 333
41105 | D | Biopsy of tongue | 2 | 446
41110 | D | Excision of tongue lesion | 1 | 333
41112 |  | Excision of tongue lesion | 2 | 446
41113 |  | Excision of tongue lesion | 2 | 446
41114 |  | Excision of tongue lesion | 2 | 446
41115 | D | Excision of tongue fold | 1 | 333
41116 |  | Excision of mouth lesion | 1 | 333
41120 |  | Partial removal of tongue | 5 | 717
41250 |  | Repair tongue laceration | 2 | 446
41251 |  | Repair tongue laceration | 2 | 446
41252 |  | Repair tongue laceration | 2 | 446
41500 |  | Fixation of tongue | 1 | 333
41510 |  | Tongue to lip surgery | 1 | 333
41520 |  | Reconstruction, tongue fold | 2 | 446
41800 |  | Drainage of gum lesion | 1 | 333
41805 | D | Removal foreign body, gum | 1 | 333
41806 | D | Removal foreign body, jawbone | 1 | 333
41827 |  | Excision of gum lesion | 2 | 446
42000 |  | Drainage mouth roof lesion | 2 | 446
42104 | D | Excision lesion, mouth roof | 2 | 446
42106 | D | Excision lesion, mouth roof | 2 | 446
42107 |  | Excision lesion, mouth roof | 2 | 446
42120 |  | Remove palate/lesion | 4 | 630
42140 |  | Excision of uvula | 2 | 446
42145 |  | Repair palate, pharynx/uvula | 5 | 717
42160 | D | Treatment mouth roof lesion | 1 | 333
42180 |  | Repair palate | 1 | 333
42182 |  | Repair palate | 2 | 446
42200 |  | Reconstruct cleft palate | 5 | 717
42205 |  | Reconstruct cleft palate | 5 | 717
42210 |  | Reconstruct cleft palate | 5 | 717
42215 |  | Reconstruct cleft palate | 7 | 995
42220 |  | Reconstruct cleft palate | 5 | 717
42225 | D | Reconstruct cleft palate | 5 | 717
42226 | A | Lengthening of palate | 5 | 717
42235 |  | Repair palate | 5 | 717
42260 |  | Repair nose to lip fistula | 4 | 630
42281 | D | Insertion, palate prosthesis | 3 | 510
42300 |  | Drainage of salivary gland | 1 | 333
42305 |  | Drainage of salivary gland | 2 | 446
42310 |  | Drainage of salivary gland | 1 | 333
42320 |  | Drainage of salivary gland | 1 | 333
42325 |  | Create salivary cyst drain | 2 | 446
42335 | D | Removal of salivary stone | 3 | 510
42340 |  | Removal of salivary stone | 2 | 446
42405 |  | Biopsy of salivary gland | 2 | 446
42408 |  | Excision of salivary cyst | 3 | 510
42409 |  | Drainage of salivary cyst | 3 | 510
42410 |  | Excise parotid gland/lesion | 3 | 510
42415 | A | Excise parotid gland/lesion | 3 | 510
42420 |  | Excise parotid gland/lesion | 7 | 995
42425 |  | Excise parotid gland/lesion | 7 | 995
42440 |  | Excise submaxillary gland | 3 | 510
42450 |  | Excise sublingual gland | 2 | 446
42500 |  | Repair salivary duct | 3 | 510
42505 |  | Repair salivary duct | 4 | 630
42507 |  | Parotid duct diversion | 3 | 510
42508 |  | Parotid duct diversion | 4 | 630
42509 |  | Parotid duct diversion | 4 | 630
42510 |  | Parotid duct diversion | 4 | 630
42600 |  | Closure of salivary fistula | 1 | 333
42700 |  | Drainage of tonsil abscess | 1 | 333
42720 |  | Drainage of throat abscess | 1 | 333
42725 |  | Drainage of throat abscess | 2 | 446
42802 |  | Biopsy of throat | 1 | 333
42804 |  | Biopsy of upper nose/throat | 1 | 333
42806 |  | Biopsy of upper nose/throat | 2 | 446
42808 |  | Excise pharynx lesion | 2 | 446
42810 |  | Excision of neck cyst | 3 | 510
42815 |  | Excision of neck cyst | 5 | 717
42820 | A | Remove tonsils and adenoids | 3 | 510
42821 |  | Remove tonsils and adenoids | 5 | 717
42825 | A | Removal of tonsils | 4 | 630
42826 |  | Removal of tonsils | 4 | 630
42830 | A | Removal of adenoids | 4 | 630
42831 |  | Removal of adenoids | 4 | 630
42835 | A | Removal of adenoids | 4 | 630
42836 |  | Removal of adenoids | 4 | 630
42860 |  | Excision of tonsil tags | 3 | 510
42870 |  | Excision of lingual tonsil | 3 | 510
42890 | A | Partial removal of pharynx | 7 | 995
42892 | A | Revision of pharyngeal walls | 7 | 995
42900 |  | Repair throat wound | 1 | 333
42950 |  | Reconstruction of throat | 2 | 446
42955 |  | Surgical opening of throat | 2 | 446
42960 |  | Control throat bleeding | 1 | 333
42962 |  | Control throat bleeding | 2 | 446
42972 | A | Control nose/throat bleeding | 3 | 510
43200 |  | Esophagus endoscopy | 1 | 333
43201 | A* | Esoph scope w/submucous inj | 1 | 333
43202 |  | Esophagus endoscopy, biopsy | 1 | 333
43204 |  | Esophagus endoscopy & inject | 1 | 333
43205 | A | Esophagus endoscopy/ligation | 1 | 333
43215 |  | Esophagus endoscopy | 1 | 333
43216 |  | Esophagus endoscopy/lesion | 1 | 333
43217 |  | Esophagus endoscopy | 1 | 333
43219 |  | Esophagus endoscopy | 1 | 333
43220 |  | Esoph endoscopy, dilation | 1 | 333
43226 |  | Esoph endoscopy, dilation | 1 | 333
43227 |  | Esoph endoscopy, repair | 2 | 446
43228 |  | Esoph endoscopy, ablation | 2 | 446
43231 | A* | Esoph endoscopy w/us exam | 2 | 446
43232 | A* | Esoph endoscopy w/us fn bx | 2 | 446
43234 |  | Upper GI endoscopy, exam | 1 | 333
43235 |  | Uppr gi endoscopy, diagnosis | 1 | 333
43236 | A* | Uppr gi scope w/submuc inj | 2 | 446
43239 |  | Upper GI endoscopy, biopsy | 2 | 446
43240 | A* | Esoph endoscope w/drain cyst | 2 | 446
43241 |  | Upper GI endoscopy with tube | 2 | 446
43242 | A* | Uppr gi endoscopy w/us fn bx | 2 | 446
43243 |  | Upper gi endoscopy & inject | 2 | 446
43244 | A | Upper GI endoscopy/ligation | 2 | 446
43245 |  | Operative upper GI endoscopy | 2 | 446
43246 |  | Place gastrostomy tube | 2 | 446
43247 |  | Operative upper GI endoscopy | 2 | 446
43248 |  | Uppr gi endoscopy/guide wire | 2 | 446
43249 |  | Esoph endoscopy, dilation | 2 | 446
43250 |  | Upper GI endoscopy/tumor | 2 | 446
43251 |  | Operative upper GI endoscopy | 2 | 446
43255 |  | Operative upper GI endoscopy | 2 | 446
43256 | A* | Uppr gi endoscopy w stent | 3 | 510
43258 |  | Operative upper GI endoscopy | 3 | 510
43259 |  | Endoscopic ultrasound exam | 3 | 510
43260 |  | Endo cholangiopancreatograph | 2 | 446
43261 |  | Endo cholangiopancreatograph | 2 | 446
43262 |  | Endo cholangiopancreatograph | 2 | 446
43263 |  | Endo cholangiopancreatograph | 2 | 446
43264 |  | Endo cholangiopancreatograph | 2 | 446
43265 |  | Endo cholangiopancreatograph | 2 | 446
43267 |  | Endo cholangiopancreatograph | 2 | 446
43268 |  | Endo cholangiopancreatograph | 2 | 446
43269 |  | Endo cholangiopancreatograph | 2 | 446
43271 |  | Endo cholangiopancreatograph | 2 | 446
43272 |  | Endo cholangiopancreatograph | 2 | 446
43450 |  | Dilate esophagus | 1 | 333
43453 |  | Dilate esophagus | 1 | 333
43456 |  | Dilate esophagus | 2 | 446
43458 |  | Dilate esophagus | 2 | 446
43600 |  | Biopsy of stomach | 1 | 333
43653 | A* | Laparoscopy, gastrostomy | 9 | 1339
43750 |  | Place gastrostomy tube | 2 | 446
43760 |  | Change gastrostomy tube | 1 | 333
43870 |  | Repair stomach opening | 1 | 333
44100 |  | Biopsy of bowel | 1 | 333
44312 |  | Revision of ileostomy | 1 | 333
44340 |  | Revision of colostomy | 3 | 510
44345 | D | Revision of colostomy | 4 | 630
44346 | D | Revision of colostomy | 4 | 630
44360 |  | Small bowel endoscopy | 2 | 446
44361 |  | Small bowel endoscopy/biopsy | 2 | 446
44363 |  | Small bowel endoscopy | 2 | 446
44364 |  | Small bowel endoscopy | 2 | 446
44365 |  | Small bowel endoscopy | 2 | 446
44366 |  | Small bowel endoscopy | 2 | 446
44369 |  | Small bowel endoscopy | 2 | 446
44370 | A* | Small bowel endoscopy/stent | 9 | 1339
44372 |  | Small bowel endoscopy | 2 | 446
44373 |  | Small bowel endoscopy | 2 | 446
44376 | A | Small bowel endoscopy | 2 | 446
44377 | A | Small bowel endoscopy/biopsy | 2 | 446
44378 | A | Small bowel endoscopy | 2 | 446
44379 | A* | S bowel endoscope w/stent | 9 | 1339
44380 |  | Small bowel endoscopy | 1 | 333
44382 |  | Small bowel endoscopy | 1 | 333
44383 | A* | Ileoscopy w/stent | 9 | 1339
44385 |  | Endoscopy of bowel pouch | 1 | 333
44386 |  | Endoscopy, bowel pouch/biop | 1 | 333
44388 |  | Colon endoscopy | 1 | 333
44389 |  | Colonoscopy with biopsy | 1 | 333
44390 |  | Colonoscopy for foreign body | 1 | 333
44391 |  | Colonoscopy for bleeding | 1 | 333
44392 |  | Colonoscopy & polypectomy | 1 | 333
44393 |  | Colonoscopy, lesion removal | 1 | 333
44394 |  | Colonoscopy w/snare | 1 | 333
45000 |  | Drainage of pelvic abscess | 1 | 333
45005 |  | Drainage of rectal abscess | 2 | 446
45020 |  | Drainage of rectal abscess | 2 | 446
45100 |  | Biopsy of rectum | 1 | 333
45108 |  | Removal of anorectal lesion | 2 | 446
45150 |  | Excision of rectal stricture | 2 | 446
45160 | A | Excision of rectal lesion | 2 | 446
45170 |  | Excision of rectal lesion | 2 | 446
45190 | A | Destruction, rectal tumor | 9 | 1339
45305 |  | Protosigmoidoscopy w/bx | 1 | 333
45307 |  | Protosigmoidoscopy fb | 1 | 333
45308 |  | Protosigmoidoscopy removal | 1 | 333
45309 |  | Protosigmoidoscopy removal | 1 | 333
45315 |  | Protosigmoidoscopy removal | 1 | 333
45317 |  | Protosigmoidoscopy bleed | 1 | 333
45320 |  | Protosigmoidoscopy ablate | 1 | 333
45321 |  | Protosigmoidoscopy volvul | 1 | 333
45331 |  | Sigmoidoscopy and biopsy | 1 | 333
45332 |  | Sigmoidoscopy w/fb removal | 1 | 333
45333 |  | Sigmoidoscopy & polypectomy | 1 | 333
45334 |  | Sigmoidoscopy for bleeding | 1 | 333
45335 | A* | Sigmoidoscope w/submub inj | 1 | 333
45337 |  | Sigmoidoscopy & decompress | 1 | 333
45338 |  | Sigmoidoscpy w/tumr remove | 1 | 333
45339 |  | Sigmoidoscopy w/ablate tumr | 1 | 333
45340 | A* | Sig w/balloon dilation | 1 | 333
45355 |  | Surgical colonoscopy | 1 | 333
45378 |  | Diagnostic colonoscopy | 2 | 446
45379 |  | Colonoscopy w/fb removal | 2 | 446
45380 |  | Colonoscopy and biopsy | 2 | 446
45381 | A* | Colonoscope, submucous inj | 2 | 446
45382 |  | Colonoscopy/control bleeding | 2 | 446
45383 |  | Lesion removal colonoscopy | 2 | 446
45384 |  | Lesion remove colonoscopy | 2 | 446
45385 |  | Lesion removal colonoscopy | 2 | 446
45386 | A* | Colonoscope dilate stricture | 2 | 446
45500 |  | Repair of rectum | 2 | 446
45505 |  | Repair of rectum | 2 | 446
45560 |  | Repair of rectocele | 2 | 446
45900 |  | Reduction of rectal prolapse | 1 | 333
45905 |  | Dilation of anal sphincter | 1 | 333
45910 |  | Dilation of rectal narrowing | 1 | 333
45915 |  | Remove rectal obstruction | 1 | 333
46020 |  | Placement of seton | 3 | 510
46030 |  | Removal of rectal marker | 1 | 333
46040 |  | Incision of rectal abscess | 3 | 510
46045 |  | Incision of rectal abscess | 2 | 446
46050 |  | Incision of anal abscess | 1 | 333
46060 |  | Incision of rectal abscess | 2 | 446
46080 |  | Incision of anal sphincter | 3 | 510
46200 |  | Removal of anal fissure | 2 | 446
46210 |  | Removal of anal crypt | 2 | 446
46211 |  | Removal of anal crypts | 2 | 446
46220 |  | Removal of anal tab | 1 | 333
46250 |  | Hemorrhoidectomy | 3 | 510
46255 |  | Hemorrhoidectomy | 3 | 510
46257 |  | Remove hemorrhoids & fissure | 3 | 510
46258 |  | Remove hemorrhoids & fistula | 3 | 510
46260 |  | Hemorrhoidectomy | 3 | 510
46261 |  | Remove hemorrhoids & fissure | 4 | 630
46262 |  | Remove hemorrhoids & fistula | 4 | 630
46270 |  | Removal of anal fistula | 3 | 510
46275 |  | Removal of anal fistula | 3 | 510
46280 |  | Removal of anal fistula | 4 | 630
46285 |  | Removal of anal fistula | 1 | 333
46288 | A | Repair anal fistula | 4 | 630
46608 |  | Anoscopy/remove for body | 1 | 333
46610 |  | Anoscopy/remove lesion | 1 | 333
46611 |  | Anoscopy | 1 | 333
46612 |  | Anoscopy/remove lesions | 1 | 333
46615 | A | Anoscopy | 2 | 446
46700 |  | Repair of anal stricture | 3 | 510
46750 |  | Repair of anal sphincter | 3 | 510
46753 |  | Reconstruction of anus | 3 | 510
46754 |  | Removal of suture from anus | 2 | 446
46760 |  | Repair of anal sphincter | 2 | 446
46761 | A | Repair of anal sphincter | 3 | 510
46762 | A | Implant artificial sphincter | 7 | 995
46917 | A | Laser surgery, anal lesions | 1 | 333
46922 |  | Excision of anal lesion(s) | 1 | 333
46924 |  | Destruction, anal lesion(s) | 1 | 333
46937 |  | Cryotherapy of rectal lesion | 2 | 446
46938 |  | Cryotherapy of rectal lesion | 2 | 446
47000 |  | Needle biopsy of liver | 1 | 333
47510 |  | Insert catheter, bile duct | 2 | 446
47511 | A | Insert bile duct drain | 9 | 1339
47525 |  | Change bile duct catheter | 1 | 333
47530 |  | Revise/reinsert bile tube | 1 | 333
47552 |  | Biliary endoscopy thru skin | 2 | 446
47553 |  | Biliary endoscopy thru skin | 3 | 510
47554 |  | Biliary endoscopy thru skin | 3 | 510
47555 |  | Biliary endoscopy thru skin | 3 | 510
47556 | A | Biliary endoscopy thru skin | 9 | 1339
47560 |  | Laparoscopy w/cholangio | 3 | 510
47561 |  | Laparo w/cholangio/biopsy | 3 | 510
47630 |  | Remove bile duct stone | 3 | 510
48102 |  | Needle biopsy, pancreas | 1 | 333
49000 | D | Exploration of abdomen | 4 | 630
49080 |  | Puncture, peritoneal cavity | 2 | 446
49081 |  | Removal of abdominal fluid | 2 | 446
49085 |  | Remove abdomen foreign body | 2 | 446
49180 |  | Biopsy, abdominal mass | 1 | 333
49250 |  | Excision of umbilicus | 4 | 630
49320 |  | Diag laparo separate proc | 3 | 510
49321 |  | Laparoscopy, biopsy | 4 | 630
49322 |  | Laparoscopy, aspiration | 4 | 630
49400 | D | Air injection into abdomen | 1 | 333
49420 |  | Insert abdominal drain | 1 | 333
49421 |  | Insert abdominal drain | 1 | 333
49422 | A | Remove perm cannula/catheter | 1 | 333
49425 | D | Insert abdomen-venous drain | 2 | 446
49426 |  | Revise abdomen-venous shunt | 2 | 446
49495 | A | Rpr ing hernia baby, reduc | 4 | 630
49496 | A | Rpr ing hernia baby, blocked | 4 | 630
49500 | A | Rpr ing hernia, init, reduce | 4 | 630
49501 | A | Rpr ing hernia, init blocked | 9 | 1339
49505 |  | Rpr i/hern init reduc>5 yr | 4 | 630
49507 | A | Rpr i/hern init block>5 yr | 9 | 1339
49520 |  | Rerepair ing hernia, reduce | 7 | 995
49521 | A | Rerepair ing hernia, blocked | 9 | 1339
49525 |  | Repair ing hernia, sliding | 4 | 630
49540 |  | Repair lumbar hernia | 2 | 446
49550 |  | Rpr fem hernia, init, reduce | 5 | 717
49553 | A | Rpr fem hernia, init blocked | 9 | 1339
49555 |  | Rerepair fem hernia, reduce | 5 | 717
49557 | A | Rerepair fem hernia, blocked | 9 | 1339
49560 |  | Rpr ventral hern init, reduc | 4 | 630
49561 | A | Rpr ventral hern init, block | 9 | 1339
49565 |  | Rerepair ventrl hern, reduce | 4 | 630
49566 | A | Rerepair ventrl hern, block | 9 | 1339
49568 | A | Hernia repair w/mesh | 7 | 995
49570 |  | Rpr epigastric hern, reduce | 4 | 630
49572 | A | Rpr epigastric hern, blocked | 9 | 1339
49580 | A | Rpr umbil hern, reduc <5 yr | 4 | 630
49582 | A | Rpr umbil hern, block < 5 yr | 9 | 1339
49585 |  | Rpr umbil hern, reduc > 5 yr | 4 | 630
49587 | A | Rpr umbil hern, block > 5 yr | 9 | 1339
49590 |  | Repair spigelian hernia | 3 | 510
49600 | A | Repair umbilical lesion | 4 | 630
49650 |  | Laparo hernia repair initial | 4 | 630
49651 |  | Laparo hernia repair recur | 7 | 995
50020 | D | Renal abscess, open drain | 2 | 446
50040 | D | Drainage of kidney | 3 | 510
50200 |  | Biopsy of kidney | 1 | 333
50390 |  | Drainage of kidney lesion | 1 | 333
50392 |  | Insert kidney drain | 1 | 333
50393 |  | Insert ureteral tube | 1 | 333
50395 |  | Create passage to kidney | 1 | 333
50396 |  | Measure kidney pressure | 1 | 333
50398 |  | Change kidney tube | 1 | 333
50520 | D | Close kidney-skin fistula | 1 | 333
50551 |  | Kidney endoscopy | 1 | 333
50553 |  | Kidney endoscopy | 1 | 333
50555 |  | Kidney endoscopy & biopsy | 1 | 333
50557 |  | Kidney endoscopy & treatment | 1 | 333
50559 |  | Renal endoscopy/radiotracer | 1 | 333
50561 |  | Kidney endoscopy & treatment | 1 | 333
50570 | D | Kidney endoscopy | 1 | 333
50572 | D | Kidney endoscopy | 1 | 333
50574 | D | Kidney endoscopy & biopsy | 1 | 333
50576 | D | Kidney endoscopy & treatment | 1 | 333
50578 | D | Renal endoscopy/radiotracer | 1 | 333
50580 | D | Kidney endoscopy & treatment | 1 | 333
50684 | D | Injection for ureter x-ray | 1 | 333
50688 |  | Change of ureter tube | 1 | 333
50690 | D | Injection for ureter x-ray | 1 | 333
50947 | A* | Laparo new ureter/bladder | 9 | 1339
50948 | A* | Laparo new ureter/bladder | 9 | 1339
50951 |  | Endoscopy of ureter | 1 | 333
50953 |  | Endoscopy of ureter | 1 | 333
50955 |  | Ureter endoscopy & biopsy | 1 | 333
50957 |  | Ureter endoscopy & treatment | 1 | 333
50959 |  | Ureter endoscopy & tracer | 1 | 333
50961 |  | Ureter endoscopy & treatment | 1 | 333
50970 |  | Ureter endoscopy | 1 | 333
50972 |  | Ureter endoscopy & catheter | 1 | 333
50974 |  | Ureter endoscopy & biopsy | 1 | 333
50976 |  | Ureter endoscopy & treatment | 1 | 333
50978 |  | Ureter endoscopy & tracer | 1 | 333
50980 |  | Ureter endoscopy & treatment | 1 | 333
51005 | D | Drainage of bladder | 1 | 333
51010 |  | Drainage of bladder | 1 | 333
51020 |  | Incise & treat bladder | 4 | 630
51030 |  | Incise & treat bladder | 4 | 630
51040 |  | Incise & drain bladder | 4 | 630
51045 |  | Incise bladder/drain ureter | 4 | 630
51050 | A | Removal of bladder stone | 4 | 630
51065 | A | Remove ureter calculus | 4 | 630
51080 | A | Drainage of bladder abscess | 1 | 333
51500 |  | Removal of bladder cyst | 4 | 630
51520 | A | Removal of bladder lesion | 4 | 630
51600 | D | Injection for bladder x-ray | 1 | 333
51605 | D | Preparation for bladder xray | 1 | 333
51610 | D | Injection for bladder x-ray | 1 | 333
51710 |  | Change of bladder tube | 1 | 333
51715 | A | Endoscopic injection/implant | 3 | 510
51725 | D | Simple cystometrogram | 1 | 333
51726 |  | Complex cystometrogram | 1 | 333
51772 |  | Urethra pressure profile | 1 | 333
51785 |  | Anal/urinary muscle study | 1 | 333
51865 | D | Repair of bladder wound | 4 | 630
51880 |  | Repair of bladder opening | 1 | 333
51900 | D | Repair bladder/vagina lesion | 4 | 630
51920 | D | Close bladder-uterus fistula | 3 | 510
52000 |  | Cystoscopy | 1 | 333
52001 |  | Cystoscopy, removal of clots | 2 | 446
52005 |  | Cystoscopy & ureter catheter | 2 | 446
52007 |  | Cystoscopy and biopsy | 2 | 446
52010 |  | Cystoscopy & duct catheter | 2 | 446
52204 |  | Cystoscopy | 2 | 446
52214 |  | Cystoscopy and treatment | 2 | 446
52224 |  | Cystoscopy and treatment | 2 | 446
52234 |  | Cystoscopy and treatment | 2 | 446
52235 |  | Cystoscopy and treatment | 3 | 510
52240 |  | Cystoscopy and treatment | 3 | 510
52250 |  | Cystoscopy and radiotracer | 4 | 630
52260 |  | Cystoscopy and treatment | 2 | 446
52270 |  | Cystoscopy & revise urethra | 2 | 446
52275 |  | Cystoscopy & revise urethra | 2 | 446
52276 |  | Cystoscopy and treatment | 3 | 510
52277 |  | Cystoscopy and treatment | 2 | 446
52281 |  | Cystoscopy and treatment | 2 | 446
52282 | A | Cystoscopy, implant stent | 9 | 1339
52283 |  | Cystoscopy and treatment | 2 | 446
52285 |  | Cystoscopy and treatment | 2 | 446
52290 |  | Cystoscopy and treatment | 2 | 446
52300 |  | Cystoscopy and treatment | 2 | 446
52305 |  | Cystoscopy and treatment | 2 | 446
52310 |  | Cystoscopy and treatment | 2 | 446
52315 |  | Cystoscopy and treatment | 2 | 446
52317 |  | Remove bladder stone | 1 | 333
52318 |  | Remove bladder stone | 2 | 446
52320 |  | Cystoscopy and treatment | 5 | 717
52325 |  | Cystoscopy, stone removal | 4 | 630
52327 | A | Cystoscopy, inject material | 2 | 446
52330 |  | Cystoscopy and treatment | 2 | 446
52332 |  | Cystoscopy and treatment | 2 | 446
52334 |  | Create passage to kidney | 3 | 510
52341 | A* | Cysto w/ureter stricture tx | 3 | 510
52342 | A* | Cysto w/up stricture tx | 3 | 510
52343 | A* | Cysto w/renal stricture tx | 3 | 510
52344 | A* | Cysto/uretero, stone remove | 3 | 510
52345 | A* | Cysto/uretero w/up stricture | 3 | 510
52346 | A* | Cystouretero w/renal strict | 3 | 510
52351 |  | Cystouretro & or pyeloscope | 3 | 510
52352 |  | Cystouretro w/stone remove | 4 | 630
52353 |  | Cystouretero w/lithotripsy | 4 | 630
52354 |  | Cystouretero w/biopsy | 4 | 630
52355 | A | Cystouretero w/excise tumor | 4 | 630
52400 |  | Cystouretero w/congen repr | 3 | 510
52450 |  | Incision of prostate | 3 | 510
52500 |  | Revision of bladder neck | 3 | 510
52510 | A | Dilation prostatic urethra | 3 | 510
52601 |  | Prostatectomy (TURP) | 4 | 630
52606 |  | Control postop bleeding | 1 | 333
52612 |  | Prostatectomy, first stage | 2 | 446
52614 |  | Prostatectomy, second stage | 1 | 333
52620 |  | Remove residual prostate | 1 | 333
52630 |  | Remove prostate regrowth | 2 | 446
52640 |  | Relieve bladder contracture | 2 | 446
52647 | A | Laser surgery of prostate | 9 | 1339
52648 | A | Laser surgery of prostate | 9 | 1339
52700 |  | Drainage of prostate abscess | 2 | 446
53000 |  | Incision of urethra | 1 | 333
53010 |  | Incision of urethra | 1 | 333
53020 |  | Incision of urethra | 1 | 333
53040 |  | Drainage of urethra abscess | 2 | 446
53080 | A | Drainage of urinary leakage | 3 | 510
53200 |  | Biopsy of urethra | 1 | 333
53210 |  | Removal of urethra | 5 | 717
53215 |  | Removal of urethra | 5 | 717
53220 |  | Treatment of urethra lesion | 2 | 446
53230 |  | Removal of urethra lesion | 2 | 446
53235 |  | Removal of urethra lesion | 3 | 510
53240 |  | Surgery for urethra pouch | 2 | 446
53250 |  | Removal of urethra gland | 2 | 446
53260 |  | Treatment of urethra lesion | 2 | 446
53265 |  | Treatment of urethra lesion | 2 | 446
53270 | A | Removal of urethra gland | 2 | 446
53275 |  | Repair of urethra defect | 2 | 446
53400 |  | Revise urethra, stage 1 | 3 | 510
53405 |  | Revise urethra, stage 2 | 2 | 446
53410 |  | Reconstruction of urethra | 2 | 446
53420 |  | Reconstruct urethra, stage 1 | 3 | 510
53425 |  | Reconstruct urethra, stage 2 | 2 | 446
53430 |  | Reconstruction of urethra | 2 | 446
53431 |  | Reconstruct urethra/bladder | 2 | 446
53440 |  | Correct bladder function | 2 | 446
53442 |  | Remove perineal prosthesis | 1 | 333
53444 |  | Insert tandem cuff | 2 | 446
53445 |  | Insert uro/ves nck sphincter | 1 | 333
53446 |  | Remove uro sphincter | 1 | 333
53447 |  | Remove/replace ur sphincter | 1 | 333
53449 |  | Repair uro sphincter | 1 | 333
53450 |  | Revision of urethra | 1 | 333
53460 |  | Revision of urethra | 1 | 333
53502 |  | Repair of urethra injury | 2 | 446
53505 |  | Repair of urethra injury | 2 | 446
53510 |  | Repair of urethra injury | 2 | 446
53515 |  | Repair of urethra injury | 2 | 446
53520 |  | Repair of urethra defect | 2 | 446
53605 |  | Dilate urethra stricture | 2 | 446
53665 |  | Dilation of urethra | 1 | 333
53850 | A | Prostatic microwave thermotx | 9 | 1339
54000 | A | Slitting of prepuce | 2 | 446
54001 |  | Slitting of prepuce | 2 | 446
54015 |  | Drain penis lesion | 4 | 630
54057 |  | Laser surg, penis lesion(s) | 1 | 333
54060 |  | Excision of penis lesion(s) | 1 | 333
54065 |  | Destruction, penis lesion(s) | 1 | 333
54100 |  | Biopsy of penis | 1 | 333
54105 |  | Biopsy of penis | 1 | 333
54110 |  | Treatment of penis lesion | 2 | 446
54111 | A | Treat penis lesion, graft | 2 | 446
54112 | A | Treat penis lesion, graft | 2 | 446
54115 |  | Treatment of penis lesion | 1 | 333
54120 |  | Partial removal of penis | 2 | 446
54125 | D | Removal of penis | 2 | 446
54150 | A | Circumcision | 1 | 333
54152 |  | Circumcision | 1 | 333
54160 | A | Circumcision | 2 | 446
54161 |  | Circumcision | 2 | 446
54162 |  | Lysis penil circumcis lesion | 2 | 446
54163 |  | Repair of circumcision | 2 | 446
54164 |  | Frenulotomy of penis | 2 | 446
54205 |  | Treatment of penis lesion | 4 | 630
54220 |  | Treatment of penis lesion | 1 | 333
54300 |  | Revision of penis | 3 | 510
54304 | A | Revision of penis | 3 | 510
54308 | A | Reconstruction of urethra | 3 | 510
54312 | A | Reconstruction of urethra | 3 | 510
54316 | A | Reconstruction of urethra | 3 | 510
54318 | A | Reconstruction of urethra | 3 | 510
54322 | A | Reconstruction of urethra | 3 | 510
54324 | A | Reconstruction of urethra | 3 | 510
54326 | A | Reconstruction of urethra | 3 | 510
54328 | A | Revise penis/urethra | 3 | 510
54340 | A | Secondary urethral surgery | 3 | 510
54344 | A | Secondary urethral surgery | 3 | 510
54348 | A | Secondary urethral surgery | 3 | 510
54352 | A | Reconstruct urethra/penis | 3 | 510
54360 |  | Penis plastic surgery | 3 | 510
54380 | A | Repair penis | 3 | 510
54385 | A | Repair penis | 3 | 510
54400 | A | Insert semi-rigid prosthesis | 3 | 510
54401 | A | Insert self-contd prosthesis | 3 | 510
54405 | A | Insert multi-comp penis pros | 3 | 510
54406 | A | Remove multi-comp penis pros | 3 | 510
54408 | A | Repair multi-comp penis pros | 3 | 510
54410 | A | Remove/replace penis prosth | 3 | 510
54415 | A | Remove self-contd penis pros | 3 | 510
54416 | A | Remv/repl penis contain pros | 3 | 510
54420 |  | Revision of penis | 4 | 630
54435 |  | Revision of penis | 4 | 630
54440 |  | Repair of penis | 4 | 630
54450 |  | Preputial stretching | 1 | 333
54500 |  | Biopsy of testis | 1 | 333
54505 |  | Biopsy of testis | 1 | 333
54512 |  | Excise lesion testis | 7 | 995
54520 |  | Removal of testis | 3 | 510
54522 | A | Orchiectomy, partial | 3 | 510
54530 |  | Removal of testis | 4 | 630
54550 |  | Exploration for testis | 4 | 630
54600 |  | Reduce testis torsion | 4 | 630
54620 |  | Suspension of testis | 3 | 510
54640 |  | Suspension of testis | 4 | 630
54660 |  | Revision of testis | 2 | 446
54670 |  | Repair testis injury | 3 | 510
54680 |  | Relocation of testis(es) | 3 | 510
54690 | A* | Laparoscopy, orchiectomy | 9 | 1339
54700 |  | Drainage of scrotum | 2 | 446
54800 |  | Biopsy of epididymis | 1 | 333
54820 |  | Exploration of epididymis | 1 | 333
54830 |  | Remove epididymis lesion | 3 | 510
54840 |  | Remove epididymis lesion | 4 | 630
54860 |  | Removal of epididymis | 3 | 510
54861 |  | Removal of epididymis | 4 | 630
54900 |  | Fusion of spermatic ducts | 4 | 630
54901 |  | Fusion of spermatic ducts | 4 | 630
55040 |  | Removal of hydrocele | 3 | 510
55041 |  | Removal of hydroceles | 5 | 717
55060 |  | Repair of hydrocele | 4 | 630
55100 |  | Drainage of scrotum abscess | 1 | 333
55110 |  | Explore scrotum | 2 | 446
55120 |  | Removal of scrotum lesion | 2 | 446
55150 |  | Removal of scrotum | 1 | 333
55175 |  | Revision of scrotum | 1 | 333
55180 |  | Revision of scrotum | 2 | 446
55200 |  | Incision of sperm duct | 2 | 446
55250 | A | Removal of sperm duct(s) | 2 | 446
55400 |  | Repair of sperm duct | 1 | 333
55500 |  | Removal of hydrocele | 3 | 510
55520 |  | Removal of sperm cord lesion | 4 | 630
55530 |  | Revise spermatic cord veins | 4 | 630
55535 |  | Revise spermatic cord veins | 4 | 630
55540 |  | Revise hernia & sperm veins | 5 | 717
55550 | A | Laparo ligate spermatic vein | 9 | 1339
55600 | D | Incise sperm duct pouch | 1 | 333
55605 | D | Incise sperm duct pouch | 1 | 333
55650 | D | Remove sperm duct pouch | 1 | 333
55680 |  | Remove sperm pouch lesion | 1 | 333
55700 |  | Biopsy of prostate | 2 | 446
55705 |  | Biopsy of prostate | 2 | 446
55720 |  | Drainage of prostate abscess | 1 | 333
55725 | A | Drainage of prostate abscess | 2 | 446
55859 | A | Percut/needle insert, pros | 9 | 1339
56405 | D | I & D of vulva/perineum | 2 | 446
56440 |  | Surgery for vulva lesion | 2 | 446
56441 |  | Lysis of labial lesion(s) | 1 | 333
56515 |  | Destroy vulva lesion/s compl | 3 | 510
56605 | D | Biopsy of vulva/perineum | 1 | 333
56620 |  | Partial removal of vulva | 5 | 717
56625 |  | Complete removal of vulva | 7 | 995
56700 |  | Partial removal of hymen | 1 | 333
56720 |  | Incision of hymen | 1 | 333
56740 |  | Remove vagina gland lesion | 3 | 510
56800 |  | Repair of vagina | 3 | 510
56810 |  | Repair of perineum | 5 | 717
57000 |  | Exploration of vagina | 1 | 333
57010 |  | Drainage of pelvic abscess | 2 | 446
57020 |  | Drainage of pelvic fluid | 2 | 446
57023 | A* | I & d vag hematoma, non-ob | 1 | 333
57065 |  | Destroy vag lesions, complex | 1 | 333
57105 |  | Biopsy of vagina | 2 | 446
57130 |  | Remove vagina lesion | 2 | 446
57135 |  | Remove vagina lesion | 2 | 446
57180 |  | Treat vaginal bleeding | 1 | 333
57200 |  | Repair of vagina | 1 | 333
57210 |  | Repair vagina/perineum | 2 | 446
57220 |  | Revision of urethra | 3 | 510
57230 |  | Repair of urethral lesion | 3 | 510
57240 |  | Repair bladder & vagina | 5 | 717
57250 |  | Repair rectum & vagina | 5 | 717
57260 |  | Repair of vagina | 5 | 717
57265 |  | Extensive repair of vagina | 7 | 995
57268 |  | Repair of bowel bulge | 3 | 510
57289 | A | Repair bladder & vagina | 5 | 717
57291 | A | Construction of vagina | 5 | 717
57300 |  | Repair rectum-vagina fistula | 3 | 510
57310 | D | Repair urethrovaginal lesion | 3 | 510
57311 | D | Repair urethrovaginal lesion | 4 | 630
57320 | D | Repair bladder-vagina lesion | 3 | 510
57400 |  | Dilation of vagina | 2 | 446
57410 |  | Pelvic examination | 2 | 446
57415 | A | Remove vaginal foreign body | 2 | 446
57513 |  | Laser surgery of cervix | 2 | 446
57520 |  | Conization of cervix | 2 | 446
57522 |  | Conization of cervix | 2 | 446
57530 |  | Removal of cervix | 3 | 510
57550 |  | Removal of residual cervix | 3 | 510
57556 | A | Remove cervix, repair bowel | 5 | 717
57700 |  | Revision of cervix | 1 | 333
57720 |  | Revision of cervix | 3 | 510
57800 | D | Dilation of cervical canal | 1 | 333
57820 |  | D & c of residual cervix | 3 | 510
58120 |  | Dilation and curettage | 2 | 446
58145 |  | Removal of uterus lesion | 5 | 717
58350 | A | Reopen fallopian tube | 3 | 510
58353 |  | Endometr ablate, thermal | 4 | 630
58545 | A | Laparoscopic myomectomy | 9 | 1339
58546 | A* | Laparo-myomectomy, complex | 9 | 1339
58550 | A* | Laparo-asst vag hysterectomy | 9 | 1339
58551 | D | Laparoscopy, remove myoma | 5 | 717
58555 |  | Hysteroscopy, dx, sep proc | 1 | 333
58558 |  | Hysteroscopy, biopsy | 3 | 510
58559 |  | Hysteroscopy, lysis | 2 | 446
58560 | A* | Hysteroscopy, resect septum | 3 | 510
58561 |  | Hysteroscopy, remove myoma | 3 | 510
58562 | A* | Hysteroscopy, remove fb | 3 | 510
58563 |  | Hysteroscopy, ablation | 4 | 630
58660 |  | Laparoscopy, lysis | 5 | 717
58661 |  | Laparoscopy, remove adnexa | 5 | 717
58662 |  | Laparoscopy, excise lesions | 5 | 717
58670 |  | Laparoscopy, tubal cautery | 3 | 510
58671 |  | Laparoscopy, tubal block | 3 | 510
58672 |  | Laparoscopy, fimbrioplasty | 5 | 717
58673 |  | Laparoscopy, salpingostomy | 5 | 717
58800 |  | Drainage of ovarian cyst(s) | 3 | 510
58820 |  | Drain ovary abscess, open | 3 | 510
58900 |  | Biopsy of ovary(s) | 3 | 510
59160 | A | D & c after delivery | 3 | 510
59320 | A | Revision of cervix | 1 | 333
59812 | A | Treatment of miscarriage | 5 | 717
59820 | A | Care of miscarriage | 5 | 717
59821 | A | Treatment of miscarriage | 5 | 717
59840 | A | Abortion | 5 | 717
59841 | A | Abortion | 5 | 717
59870 | A | Evacuate mole of uterus | 5 | 717
59871 | A | Remove cerclage suture | 5 | 717
60000 |  | Drain thyroid/tongue cyst | 1 | 333
60200 |  | Remove thyroid lesion | 2 | 446
60220 | D | Partial removal of thyroid | 2 | 446
60225 | D | Partial removal of thyroid | 3 | 510
60280 |  | Remove thyroid duct lesion | 4 | 630
60281 |  | Remove thyroid duct lesion | 4 | 630
61020 |  | Remove brain cavity fluid | 1 | 333
61026 |  | Injection into brain canal | 1 | 333
61050 |  | Remove brain canal fluid | 1 | 333
61055 |  | Injection into brain canal | 1 | 333
61070 |  | Brain canal shunt procedure | 1 | 333
61215 |  | Insert brain-fluid device | 3 | 510
61790 |  | Treat trigeminal nerve | 3 | 510
61791 |  | Treat trigeminal tract | 3 | 510
61885 |  | Implant neurostim one array | 2 | 446
61886 | A* | Implant neurostim arrays | 3 | 510
61888 |  | Revise/remove neuroreceiver | 1 | 333
62194 |  | Replace/irrigate catheter | 1 | 333
62225 |  | Replace/irrigate catheter | 1 | 333
62230 |  | Replace/revise brain shunt | 2 | 446
62256 | D | Remove brain cavity shunt | 2 | 446
62263 |  | Lysis epidural adhesions | 1 | 333
62268 |  | Drain spinal cord cyst | 1 | 333
62269 |  | Needle biopsy, spinal cord | 1 | 333
62270 |  | Spinal fluid tap, diagnostic | 1 | 333
62272 |  | Drain cerebro spinal fluid | 1 | 333
62273 |  | Treat epidural spine lesion | 1 | 333
62280 |  | Treat spinal cord lesion | 1 | 333
62281 | A | Treat spinal cord lesion | 1 | 333
62282 |  | Treat spinal canal lesion | 1 | 333
62287 | A | Percutaneous diskectomy | 9 | 1339
62294 |  | Injection into spinal artery | 3 | 510
62310 |  | Inject spine c/t | 1 | 333
62311 |  | Inject spine l/s (cd) | 1 | 333
62318 |  | Inject spine w/cath, c/t | 1 | 333
62319 |  | Inject spine w/cath l/s (cd) | 1 | 333
62350 |  | Implant spinal canal cath | 2 | 446
62351 | D | Implant spinal canal cath | 2 | 446
62355 | A | Remove spinal canal catheter | 2 | 446
62360 |  | Insert spine infusion device | 2 | 446
62361 |  | Implant spine infusion pump | 2 | 446
62362 |  | Implant spine infusion pump | 2 | 446
62365 |  | Remove spine infusion device | 2 | 446
62367 | D | Analyze spine infusion pump | 2 | 446
62368 | D | Analyze spine infusion pump | 2 | 446
63600 |  | Remove spinal cord lesion | 2 | 446
63610 |  | Stimulation of spinal cord | 1 | 333
63650 |  | Implant neuroelectrodes | 2 | 446
63660 |  | Revise/remove neuroelectrode | 1 | 333
63685 |  | Implant neuroreceiver | 2 | 446
63688 |  | Revise/remove neuroreceiver | 1 | 333
63744 |  | Revision of spinal shunt | 3 | 510
63746 |  | Removal of spinal shunt | 2 | 446
64410 |  | Injection for nerve block | 1 | 333
64415 |  | Injection for nerve block | 1 | 333
64417 |  | Injection for nerve block | 1 | 333
64420 |  | Injection for nerve block | 1 | 333
64421 |  | Injection for nerve block | 1 | 333
64430 |  | Injection for nerve block | 1 | 333
64470 |  | Inj paravertebral c/t | 1 | 333
64472 |  | Inj paravertebral c/t add-on | 1 | 333
64475 |  | Inj paravertebral l/s | 1 | 333
64476 |  | Inj paravertebral l/s add-on | 1 | 333
64479 |  | Inj foramen epidural c/t | 1 | 333
64480 |  | Inj foramen epidural add-on | 1 | 333
64483 |  | Inj foramen epidural l/s | 1 | 333
64484 |  | Inj foramen epidural add-on | 1 | 333
64510 |  | Injection for nerve block | 1 | 333
64520 |  | Injection for nerve block | 1 | 333
64530 |  | Injection for nerve block | 1 | 333
64553 | A | Implant neuroelectrodes | 1 | 333
64573 | A | Implant neuroelectrodes | 1 | 333
64575 |  | Implant neuroelectrodes | 1 | 333
64577 | A | Implant neuroelectrodes | 1 | 333
64580 | A | Implant neuroelectrodes | 1 | 333
64585 | A | Revise/remove neuroelectrode | 1 | 333
64590 |  | Implant neuroreceiver | 2 | 446
64595 |  | Revise/remove neuroreceiver | 1 | 333
64600 |  | Injection treatment of nerve | 1 | 333
64605 |  | Injection treatment of nerve | 1 | 333
64610 |  | Injection treatment of nerve | 1 | 333
64620 |  | Injection treatment of nerve | 1 | 333
64622 |  | Destr paravertebrl nerve l/s | 1 | 333
64623 |  | Destr paravertebral n add-on | 1 | 333
64626 |  | Destr paravertebrl nerve c/t | 1 | 333
64627 |  | Destr paravertebral n add-on | 1 | 333
64630 |  | Injection treatment of nerve | 2 | 446
64680 |  | Injection treatment of nerve | 2 | 446
64702 |  | Revise finger/toe nerve | 1 | 333
64704 |  | Revise hand/foot nerve | 1 | 333
64708 |  | Revise arm/leg nerve | 2 | 446
64712 |  | Revision of sciatic nerve | 2 | 446
64713 |  | Revision of arm nerve(s) | 2 | 446
64714 |  | Revise low back nerve(s) | 2 | 446
64716 |  | Revision of cranial nerve | 3 | 510
64718 |  | Revise ulnar nerve at elbow | 2 | 446
64719 |  | Revise ulnar nerve at wrist | 2 | 446
64721 |  | Carpal tunnel surgery | 2 | 446
64722 |  | Relieve pressure on nerve(s) | 1 | 333
64726 |  | Release foot/toe nerve | 1 | 333
64727 |  | Internal nerve revision | 1 | 333
64732 |  | Incision of brow nerve | 2 | 446
64734 |  | Incision of cheek nerve | 2 | 446
64736 |  | Incision of chin nerve | 2 | 446
64738 |  | Incision of jaw nerve | 2 | 446
64740 |  | Incision of tongue nerve | 2 | 446
64742 |  | Incision of facial nerve | 2 | 446
64744 |  | Incise nerve, back of head | 2 | 446
64746 |  | Incise diaphragm nerve | 2 | 446
64771 |  | Sever cranial nerve | 2 | 446
64772 |  | Incision of spinal nerve | 2 | 446
64774 |  | Remove skin nerve lesion | 2 | 446
64776 |  | Remove digit nerve lesion | 3 | 510
64778 |  | Digit nerve surgery add-on | 2 | 446
64782 |  | Remove limb nerve lesion | 3 | 510
64783 |  | Limb nerve surgery add-on | 2 | 446
64784 |  | Remove nerve lesion | 3 | 510
64786 |  | Remove sciatic nerve lesion | 3 | 510
64787 |  | Implant nerve end | 2 | 446
64788 |  | Remove skin nerve lesion | 3 | 510
64790 |  | Removal of nerve lesion | 3 | 510
64792 |  | Removal of nerve lesion | 3 | 510
64795 |  | Biopsy of nerve | 2 | 446
64802 |  | Remove sympathetic nerves | 2 | 446
64821 | A* | Remove sympathetic nerves | 4 | 630
64831 |  | Repair of digit nerve | 4 | 630
64832 |  | Repair nerve add-on | 1 | 333
64834 |  | Repair of hand or foot nerve | 2 | 446
64835 |  | Repair of hand or foot nerve | 3 | 510
64836 |  | Repair of hand or foot nerve | 3 | 510
64837 |  | Repair nerve add-on | 1 | 333
64840 |  | Repair of leg nerve | 2 | 446
64856 |  | Repair/transpose nerve | 2 | 446
64857 |  | Repair arm/leg nerve | 2 | 446
64858 |  | Repair sciatic nerve | 2 | 446
64859 |  | Nerve surgery | 1 | 333
64861 |  | Repair of arm nerves | 3 | 510
64862 |  | Repair of low back nerves | 3 | 510
64864 |  | Repair of facial nerve | 3 | 510
64865 |  | Repair of facial nerve | 4 | 630
64870 |  | Fusion of facial/other nerve | 4 | 630
64872 |  | Subsequent repair of nerve | 2 | 446
64874 |  | Repair & revise nerve add-on | 3 | 510
64876 |  | Repair nerve/shorten bone | 3 | 510
64885 | A | Nerve graft, head or neck | 2 | 446
64886 | A | Nerve graft, head or neck | 2 | 446
64890 |  | Nerve graft, hand or foot | 2 | 446
64891 |  | Nerve graft, hand or foot | 2 | 446
64892 |  | Nerve graft, arm or leg | 2 | 446
64893 |  | Nerve graft, arm or leg | 2 | 446
64895 |  | Nerve graft, hand or foot | 3 | 510
64896 |  | Nerve graft, hand or foot | 3 | 510
64897 |  | Nerve graft, arm or leg | 3 | 510
64898 |  | Nerve graft, arm or leg | 3 | 510
64901 |  | Nerve graft add-on | 2 | 446
64902 |  | Nerve graft add-on | 2 | 446
64905 |  | Nerve pedicle transfer | 2 | 446
64907 |  | Nerve pedicle transfer | 1 | 333
65091 |  | Revise eye | 3 | 510
65093 |  | Revise eye with implant | 3 | 510
65101 |  | Removal of eye | 3 | 510
65103 |  | Remove eye/insert implant | 3 | 510
65105 |  | Remove eye/attach implant | 4 | 630
65110 |  | Removal of eye | 5 | 717
65112 |  | Remove eye/revise socket | 7 | 995
65114 |  | Remove eye/revise socket | 7 | 995
65130 |  | Insert ocular implant | 3 | 510
65135 |  | Insert ocular implant | 2 | 446
65140 |  | Attach ocular implant | 3 | 510
65150 |  | Revise ocular implant | 2 | 446
65155 |  | Reinsert ocular implant | 3 | 510
65175 |  | Removal of ocular implant | 1 | 333
65235 |  | Remove foreign body from eye | 2 | 446
65260 |  | Remove foreign body from eye | 3 | 510
65265 |  | Remove foreign body from eye | 4 | 630
65270 |  | Repair of eye wound | 2 | 446
65272 |  | Repair of eye wound | 2 | 446
65275 |  | Repair of eye wound | 4 | 630
65280 |  | Repair of eye wound | 4 | 630
65285 |  | Repair of eye wound | 4 | 630
65290 |  | Repair of eye socket wound | 3 | 510
65400 |  | Removal of eye lesion | 1 | 333
65410 |  | Biopsy of cornea | 2 | 446
65420 |  | Removal of eye lesion | 2 | 446
65426 |  | Removal of eye lesion | 5 | 717
65710 |  | Corneal transplant | 7 | 995
65730 |  | Corneal transplant | 7 | 995
65750 |  | Corneal transplant | 7 | 995
65755 |  | Corneal transplant | 7 | 995
65770 |  | Revise cornea with implant | 7 | 995
65772 | A | Correction of astigmatism | 4 | 630
65775 | A | Correction of astigmatism | 4 | 630
65800 |  | Drainage of eye | 1 | 333
65805 |  | Drainage of eye | 1 | 333
65810 |  | Drainage of eye | 3 | 510
65815 |  | Drainage of eye | 2 | 446
65850 |  | Incision of eye | 4 | 630
65865 |  | Incise inner eye adhesions | 1 | 333
65870 |  | Incise inner eye adhesions | 4 | 630
65875 |  | Incise inner eye adhesions | 4 | 630
65880 |  | Incise inner eye adhesions | 4 | 630
65900 |  | Remove eye lesion | 5 | 717
65920 |  | Remove implant of eye | 7 | 995
65930 |  | Remove blood clot from eye | 5 | 717
66020 |  | Injection treatment of eye | 1 | 333
66030 |  | Injection treatment of eye | 1 | 333
66130 |  | Remove eye lesion | 7 | 995
66150 |  | Glaucoma surgery | 4 | 630
66155 |  | Glaucoma surgery | 4 | 630
66160 |  | Glaucoma surgery | 2 | 446
66165 |  | Glaucoma surgery | 4 | 630
66170 |  | Glaucoma surgery | 4 | 630
66172 |  | Incision of eye | 4 | 630
66180 |  | Implant eye shunt | 5 | 717
66185 |  | Revise eye shunt | 2 | 446
66220 |  | Repair eye lesion | 3 | 510
66225 |  | Repair/graft eye lesion | 4 | 630
66250 |  | Follow-up surgery of eye | 2 | 446
66500 |  | Incision of iris | 1 | 333
66505 |  | Incision of iris | 1 | 333
66600 |  | Remove iris and lesion | 3 | 510
66605 |  | Removal of iris | 3 | 510
66625 |  | Removal of iris | 3 | 510
66630 |  | Removal of iris | 3 | 510
66635 |  | Removal of iris | 3 | 510
66680 |  | Repair iris & ciliary body | 3 | 510
66682 |  | Repair iris & ciliary body | 2 | 446
66700 |  | Destruction, ciliary body | 2 | 446
66710 |  | Destruction, ciliary body | 2 | 446
66720 |  | Destruction, ciliary body | 2 | 446
66740 |  | Destruction, ciliary body | 2 | 446
66821 |  | After cataract laser surgery | 2 | 446
66825 | A | Reposition intraocular lens | 4 | 630
66830 |  | Removal of lens lesion | 4 | 630
66840 |  | Removal of lens material | 4 | 630
66850 |  | Removal of lens material | 7 | 995
66852 |  | Removal of lens material | 4 | 630
66920 |  | Extraction of lens | 4 | 630
66930 |  | Extraction of lens | 5 | 717
66940 |  | Extraction of lens | 5 | 717
66982 |  | Cataract surgery, complex | 8 | 973
66983 |  | Cataract surg w/iol, 1 stage | 8 | 973
66984 |  | Cataract surg w/iol, i stage | 8 | 973
66985 |  | Insert lens prosthesis | 6 | 826
66986 |  | Exchange lens prosthesis | 6 | 826
67005 |  | Partial removal of eye fluid | 4 | 630
67010 |  | Partial removal of eye fluid | 4 | 630
67015 |  | Release of eye fluid | 1 | 333
67025 |  | Replace eye fluid | 1 | 333
67027 | A | Implant eye drug system | 4 | 630
67030 |  | Incise inner eye strands | 1 | 333
67031 |  | Laser surgery, eye strands | 2 | 446
67036 |  | Removal of inner eye fluid | 4 | 630
67038 |  | Strip retinal membrane | 5 | 717
67039 |  | Laser treatment of retina | 7 | 995
67040 |  | Laser treatment of retina | 7 | 995
67107 |  | Repair detached retina | 5 | 717
67108 |  | Repair detached retina | 7 | 995
67112 |  | Rerepair detached retina | 7 | 995
67115 |  | Release encircling material | 2 | 446
67120 |  | Remove eye implant material | 2 | 446
67121 |  | Remove eye implant material | 2 | 446
67141 |  | Treatment of retina | 2 | 446
67218 |  | Treatment of retinal lesion | 5 | 717
67227 |  | Treatment of retinal lesion | 1 | 333
67250 |  | Reinforce eye wall | 3 | 510
67255 |  | Reinforce/graft eye wall | 3 | 510
67311 |  | Revise eye muscle | 3 | 510
67312 |  | Revise two eye muscles | 4 | 630
67314 |  | Revise eye muscle | 4 | 630
67316 |  | Revise two eye muscles | 4 | 630
67318 |  | Revise eye muscle(s) | 4 | 630
67320 |  | Revise eye muscle(s) add-on | 4 | 630
67331 |  | Eye surgery follow-up add-on | 4 | 630
67332 |  | Rerevise eye muscles add-on | 4 | 630
67334 | A | Revise eye muscle w/suture | 4 | 630
67335 | A | Eye suture during surgery | 4 | 630
67340 |  | Revise eye muscle add-on | 4 | 630
67350 |  | Biopsy eye muscle | 1 | 333
67400 |  | Explore/biopsy eye socket | 3 | 510
67405 |  | Explore/drain eye socket | 4 | 630
67412 |  | Explore/treat eye socket | 5 | 717
67413 |  | Explore/treat eye socket | 5 | 717
67415 |  | Aspiration, orbital contents | 1 | 333
67420 |  | Explore/treat eye socket | 5 | 717
67430 |  | Explore/treat eye socket | 5 | 717
67440 |  | Explore/drain eye socket | 5 | 717
67450 |  | Explore/biopsy eye socket | 5 | 717
67550 |  | Insert eye socket implant | 4 | 630
67560 |  | Revise eye socket implant | 2 | 446
67715 |  | Incision of eyelid fold | 1 | 333
67808 |  | Remove eyelid lesion(s) | 2 | 446
67830 |  | Revise eyelashes | 2 | 446
67835 |  | Revise eyelashes | 2 | 446
67880 |  | Revision of eyelid | 3 | 510
67882 |  | Revision of eyelid | 3 | 510
67900 | A | Repair brow defect | 4 | 630
67901 |  | Repair eyelid defect | 5 | 717
67902 |  | Repair eyelid defect | 5 | 717
67903 |  | Repair eyelid defect | 4 | 630
67904 |  | Repair eyelid defect | 4 | 630
67906 |  | Repair eyelid defect | 5 | 717
67908 |  | Repair eyelid defect | 4 | 630
67909 |  | Revise eyelid defect | 4 | 630
67911 |  | Revise eyelid defect | 3 | 510
67914 |  | Repair eyelid defect | 3 | 510
67916 |  | Repair eyelid defect | 4 | 630
67917 |  | Repair eyelid defect | 4 | 630
67921 |  | Repair eyelid defect | 3 | 510
67923 |  | Repair eyelid defect | 4 | 630
67924 |  | Repair eyelid defect | 4 | 630
67935 |  | Repair eyelid wound | 2 | 446
67950 |  | Revision of eyelid | 2 | 446
67961 |  | Revision of eyelid | 3 | 510
67966 |  | Revision of eyelid | 3 | 510
67971 |  | Reconstruction of eyelid | 3 | 510
67973 |  | Reconstruction of eyelid | 3 | 510
67974 |  | Reconstruction of eyelid | 3 | 510
67975 |  | Reconstruction of eyelid | 3 | 510
68115 | A | Remove eyelid lining lesion | 2 | 446
68130 |  | Remove eyelid lining lesion | 2 | 446
68320 |  | Revise/graft eyelid lining | 4 | 630
68325 |  | Revise/graft eyelid lining | 4 | 630
68326 |  | Revise/graft eyelid lining | 4 | 630
68328 |  | Revise/graft eyelid lining | 4 | 630
68330 |  | Revise eyelid lining | 4 | 630
68335 |  | Revise/graft eyelid lining | 4 | 630
68340 |  | Separate eyelid adhesions | 4 | 630
68360 |  | Revise eyelid lining | 2 | 446
68362 |  | Revise eyelid lining | 2 | 446
68500 |  | Removal of tear gland | 3 | 510
68505 |  | Partial removal, tear gland | 3 | 510
68510 |  | Biopsy of tear gland | 1 | 333
68520 |  | Removal of tear sac | 3 | 510
68525 |  | Biopsy of tear sac | 1 | 333
68540 |  | Remove tear gland lesion | 3 | 510
68550 |  | Remove tear gland lesion | 3 | 510
68700 |  | Repair tear ducts | 2 | 446
68720 |  | Create tear sac drain | 4 | 630
68745 |  | Create tear duct drain | 4 | 630
68750 |  | Create tear duct drain | 4 | 630
68770 | A | Close tear system fistula | 4 | 630
68810 |  | Probe nasolacrimal duct | 1 | 333
68811 |  | Probe nasolacrimal duct | 2 | 446
68815 |  | Probe nasolacrimal duct | 2 | 446
69110 |  | Remove external ear, partial | 1 | 333
69120 |  | Removal of external ear | 2 | 446
69140 |  | Remove ear canal lesion(s) | 2 | 446
69145 |  | Remove ear canal lesion(s) | 2 | 446
69150 |  | Extensive ear canal surgery | 3 | 510
69205 |  | Clear outer ear canal | 1 | 333
69300 | A | Revise external ear | 3 | 510
69310 |  | Rebuild outer ear canal | 3 | 510
69320 |  | Rebuild outer ear canal | 7 | 995
69421 |  | Incision of eardrum | 3 | 510
69424 | D | Remove ventilating tube | 1 | 333
69436 |  | Create eardrum opening | 3 | 510
69440 |  | Exploration of middle ear | 3 | 510
69450 |  | Eardrum revision | 1 | 333
69501 |  | Mastoidectomy | 7 | 995
69502 |  | Mastoidectomy | 7 | 995
69505 |  | Remove mastoid structures | 7 | 995
69511 |  | Extensive mastoid surgery | 7 | 995
69530 |  | Extensive mastoid surgery | 7 | 995
69550 |  | Remove ear lesion | 5 | 717
69552 |  | Remove ear lesion | 7 | 995
69601 |  | Mastoid surgery revision | 7 | 995
69602 |  | Mastoid surgery revision | 7 | 995
69603 |  | Mastoid surgery revision | 7 | 995
69604 |  | Mastoid surgery revision | 7 | 995
69605 |  | Mastoid surgery revision | 7 | 995
69620 |  | Repair of eardrum | 2 | 446
69631 |  | Repair eardrum structures | 5 | 717
69632 |  | Rebuild eardrum structures | 5 | 717
69633 |  | Rebuild eardrum structures | 5 | 717
69635 |  | Repair eardrum structures | 7 | 995
69636 |  | Rebuild eardrum structures | 7 | 995
69637 |  | Rebuild eardrum structures | 7 | 995
69641 |  | Revise middle ear & mastoid | 7 | 995
69642 |  | Revise middle ear & mastoid | 7 | 995
69643 |  | Revise middle ear & mastoid | 7 | 995
69644 |  | Revise middle ear & mastoid | 7 | 995
69645 |  | Revise middle ear & mastoid | 7 | 995
69646 |  | Revise middle ear & mastoid | 7 | 995
69650 |  | Release middle ear bone | 7 | 995
69660 |  | Revise middle ear bone | 5 | 717
69661 |  | Revise middle ear bone | 5 | 717
69662 |  | Revise middle ear bone | 5 | 717
69666 |  | Repair middle ear structures | 4 | 630
69667 |  | Repair middle ear structures | 4 | 630
69670 |  | Remove mastoid air cells | 3 | 510
69676 |  | Remove middle ear nerve | 3 | 510
69700 |  | Close mastoid fistula | 3 | 510
69710 | D | Implant/replace hearing aid | 3 | 510
69711 |  | Remove/repair hearing aid | 1 | 333
69714 | A* | Implant temple bone w/stimul | 9 | 1339
69715 | A* | Temple bne implnt w/stimulat | 9 | 1339
69717 | A* | Temple bone implant revision | 9 | 1339
69718 | A* | Revise temple bone implant | 9 | 1339
69720 |  | Release facial nerve | 5 | 717
69725 |  | Release facial nerve | 5 | 717
69740 |  | Repair facial nerve | 5 | 717
69745 |  | Repair facial nerve | 5 | 717
69801 |  | Incise inner ear | 5 | 717
69802 |  | Incise inner ear | 7 | 995
69805 |  | Explore inner ear | 7 | 995
69806 |  | Explore inner ear | 7 | 995
69820 |  | Establish inner ear window | 5 | 717
69840 |  | Revise inner ear window | 5 | 717
69905 |  | Remove inner ear | 7 | 995
69910 |  | Remove inner ear & mastoid | 7 | 995
69915 |  | Incise inner ear nerve | 7 | 995
69930 |  | Implant cochlear device | 7 | 995
G0105 |  | Colorectal scrn; hi risk ind | 2 | 446
G0121 |  | Colon ca scrn; barium enema | 2 | 446
G0260 | A* | Inj for sacroiliac jt anesth | 1 | 333
“A”=Addition. “A*”=For Comment. “D”=Deletion.
Note: CPT codes are copyright 2002 American Medical Association. All Rights Reserved.

[FR Doc. 03-7236 Filed 3-27-03; 8:45 am]

BILLING CODE 4120-01-P